DEPARTMENT OF HOMELAND SECURITY

8 CFR Parts 103 and 235

[Docket No. USCBP-2020-0035]

RIN 1651-AB94

Harmonization of the Fees and Application Procedures for the Global Entry and SENTRI Programs and Other Changes

AGENCY: U.S. Customs and Border Protection, Department of Homeland Security.

ACTION: Notice of proposed rulemaking.

SUMMARY: U.S. Customs and Border Protection (CBP) operates several trusted traveler programs at land, sea and air ports of entry into the United States that allow certain pre-approved travelers dedicated processing into the United States, including the Secure Electronic Network for Travelers Rapid Inspection (SENTRI) program, the Global Entry program, and the NEXUS program. CBP seeks to harmonize the fees and application procedures for these three programs. In this document, CBP proposes to change the Global Entry and SENTRI application fees to a uniform amount, provide a uniform standard regarding the payment of the Global Entry and SENTRI application fees for minors, change the fee payment schedule and certain aspects of the application process for the SENTRI program, and incorporate the SENTRI program into the Department of Homeland Security (DHS) regulations. CBP also proposes to make changes to the Global Entry regulations that are consistent with the program's expansion to certain U.S. territories and preclearance facilities. Finally, CBP proposes to eliminate the separate dedicated commuter lane systems costs fee (DCL fee) currently applicable only to approved SENTRI participants. CBP will be issuing a separate notice in the Federal Register regarding changes to the NEXUS fee.

DATES: Comments must be received on or before November 9, 2020.

ADDRESSES: Comments may be submitted, identified by docket number USCBP-2020-0035, by the following method:

Federal eRulemaking Portal: http://www.regulations.gov. Follow the instructions for submitting comments.

Due to COVID-19-related restrictions, CBP has temporarily suspended its ability to receive public comments by mail.

Instructions: All submissions received must include the agency name and docket title for this rulemaking, and must reference docket number USCBP-2020-0035. All comments received will be posted without change to http://www.regulations.gov, including any personal information provided. For detailed instructions on submitting comments and additional information on the rulemaking process, see the “Public Participation” heading of the SUPPLEMENTARY INFORMATION section of this document.

Docket: For access to the docket to read background documents or comments received, go to: https://www.regulations.gov. Due to relevant COVID-19-related restrictions, CBP has temporarily suspended its on-site public inspection of submitted comments.

FOR FURTHER INFORMATION CONTACT: Rafael E. Henry, Branch Chief, Office of Field Operations, (202) 344-3251, Rafael.E.Henry@cbp.dhs.gov.

SUPPLEMENTARY INFORMATION:

Table of Contents

I. Public Participation

II. Executive Summary

III. Background

A. Global Entry Program—Current Requirements

B. SENTRI Program—Current Requirements

1. General Requirements

2. SENTRI Family Option Plans

C. NEXUS Program—Current Requirements

D. Summary of Benefits for the NEXUS, SENTRI and Global Entry Programs

IV. Proposed Changes to Global Entry and SENTRI Programs

A. Harmonizing the CBP Trusted Traveler Programs

1. Proposal To Harmonize the Global Entry and SENTRI Fees

2. Proposal To Exempt Certain Minors From Payment of the Application Fee

B. Proposal To Establish a New Regulation for the SENTRI Program

C. Additional Proposed Changes to the SENTRI Program

1. Proposal To Change the Fee Payment Schedule for the SENTRI Program

2. Proposal To Mandate Electronic Submission of the SENTRI Program Application and Payment of Fees

D. Additional Proposed Changes to the Global Entry Program

1. 8 CFR 235.12(g)

2. 8 CFR 235.12(h)

3. Other Amendments to 8 CFR 235.12

E. Proposed Conforming Amendment to 8 CFR 103.7

V. Statutory and Regulatory Requirements

A. Executive Order 13563, Executive Order 12866 and Executive Order 13771

1. Purpose of the Rule

2. Background

3. Costs

4. Benefits

5. Distributional Impacts

6. Total Monetized Decrease in Transfer Payments to U.S. Government

7. Total Monetized Increase in Transfer Payments to U.S. Government

8. Net Transfer Payments to U.S. Government

9. Breakeven Analysis

B. Regulatory Flexibility Act

C. Unfunded Mandates Reform Act of 1995

D. Executive Order 13132

E. Paperwork Reduction Act

F. Privacy

VI. List of Subjects

VII. Proposed Amendments to Regulations

I. Public Participation

Interested persons are invited to participate in this rulemaking by submitting written data, views, or arguments on all aspects on the proposed rule. CBP also invites comments that relate to the economic or federalism effects that might result from this proposed rule. Comments that will provide the most assistance to CBP in developing the procedures related to the subject matter of this rulemaking will reference a specific portion of the proposed rule, explain the reason for any recommended change, and include data, information, or authority that support such recommended change.

II. Executive Summary

CBP operates several voluntary trusted traveler programs that provide dedicated processing travel privileges for pre-approved travelers. Three of CBP's trusted traveler programs are the Global Entry, NEXUS, and Secure Electronic Network for Travelers Rapid Inspection (SENTRI) programs. The Global Entry program allows pre-approved travelers dedicated CBP processing at designated airports, currently through the use of automated kiosks. The NEXUS program is a joint trusted traveler program between the United States and Canada that allows pre-approved travelers dedicated processing by U.S. and Canadian officials, respectively, at designated lanes at certain northern border ports of entry, currently at automated kiosks at Canadian preclearance airports and at NEXUS marine reporting locations. The SENTRI program allows pre-approved travelers dedicated CBP processing at specified land border ports along the U.S.-Mexico border. Despite the fact that these three CBP trusted traveler programs have developed many commonalities over recent years, the Global Entry, SENTRI, and NEXUS programs have retained their own fees, fee payment schedules, application processes, and rules regarding the payment of the application fee by minors. CBP is of the view that the different fees and application processes are no longer warranted.

Moreover, the current fees are no longer sufficient to recover CBP's costs to administer the programs. CBP has performed a fee study entitled “CBP Trusted Traveler Programs Fee Study” and determined that a uniform $120 fee is appropriate and necessary to recover a reasonable portion of costs associated with application processing for these three CBP trusted traveler programs.¹ In this document, CBP is proposing a $120 application fee for the Global Entry and SENTRI programs. CBP intends to publish a separate Federal Register notice that addresses the NEXUS application fee (which will be consistent with the fees proposed here for Global Entry and SENTRI). With respect to the application fee paid by minors, CBP is proposing in this document that, for the Global Entry and SENTRI programs, minors under age 18 would be exempt from the application fee if they applied concurrently with a parent or legal guardian or if their parent or legal guardian is already a member of the same program to which the minor is applying. Otherwise, the minor would be required to pay the $120 fee.

¹ It should be noted that the NEXUS fee is split between the United States and Canada. As a result, the United States will only receive part of the revenue necessary to recover its costs for the NEXUS program. Please see the fee study entitled “CBP Trusted Traveler Programs Fee Study” included in the docket for this rulemaking (docket number USCBP-2020-0035), for additional details.

In addition to the changes discussed above, this document also proposes to add a section in Part 235 of title 8 of the Code of Federal Regulations (CFR) (8 CFR part 235) that specifically covers the SENTRI program. The SENTRI program was developed by the legacy Immigration and Naturalization Service (INS) as part of a series of programs referred to as Port Passenger Accelerated Service System (PORTPASS). The INS established PORTPASS to preserve border security while allowing low-risk travelers to move quickly and safely through the inspection process. With the transfer of functions from the legacy INS to DHS, and advances in technology, there have been significant changes to the SENTRI application procedures that are not reflected in the PORTPASS regulation. CBP has also modernized other aspects of the SENTRI program and established new procedures and requirements to align the SENTRI program with the Global Entry and NEXUS programs. As a result, CBP is proposing to add a new section 235.14 to title 8 of the CFR (8 CFR 235.14) for the SENTRI program modeled after the Global Entry regulations, 8 CFR 235.12, that would incorporate the current parameters, requirements and application procedures of the SENTRI program.

Additionally, this document proposes regulatory changes to the Global Entry program that are consistent with CBP's expansion of the program to persons traveling to U.S. territories and being processed at preclearance facilities located outside the United States. The current regulation sets forth the arrival procedures for persons being processed upon arrival in the United States. Due to the success of the Global Entry program, CBP is continually expanding Global Entry at preclearance facilities and certain U.S. territories.

Finally, this document proposes to eliminate the regulation specifying the amount for the dedicated commuter lane systems cost fee (DCL fee). SENTRI is the only program for which CBP charges the DCL fee. If the changes proposed in this document are implemented, all the relevant fees pertaining to SENTRI would be included in the SENTRI regulations.

III. Background

Members of CBP trusted traveler programs are vetted travelers who have voluntarily applied for membership, paid a fee, and provided personal data to CBP. Travelers who are active members in a CBP trusted traveler program are considered lower risk than other travelers because CBP conducts vetting both when the participant applies to the program and on an on-going basis after the participant becomes a member. By segregating the processing of previously screened travelers, CBP can focus its attention and resources on higher-risk travelers. Three of these CBP trusted traveler programs are the Global Entry, NEXUS, and SENTRI programs.² The Global Entry program allows pre-approved travelers dedicated CBP processing at designated airports, currently through the use of automated kiosks. The SENTRI program allows dedicated processing at specified land border ports along the U.S.-Mexico border for pre-approved travelers. The NEXUS program is a joint trusted traveler program between the United States and Canada, the details of which can be found at http://www.cbp.gov/travel/trusted-traveler-programs/nexus.

² The Free and Secure Trade (FAST) program is another CBP trusted traveler program that allows pre-approved commercial truck drivers dedicated processing at select commercial ports of entry at the northern and southern land borders. This program has different vetting standards, is offered to a different type of traveler, and does not have the same benefits as the Global Entry, SENTRI, and NEXUS programs. TSA Precheck is a DHS trusted traveler program administered by the Transportation Security Administration (TSA).

When the Global Entry, NEXUS, and SENTRI programs were established, each had a separate application process and the information pertaining to participants of each program were contained in separate databases. Over time, due to advances in technology, security concerns, and the expansion of the programs, CBP created a more unified application process and a centralized database. Currently, the Global Entry, SENTRI, and NEXUS programs use the same application. The application is typically submitted electronically through the Trusted Traveler Program Systems (TTP Systems) website, https://ttp.cbp.dhs.gov, formerly the Global Online Enrollment System (GOES) website, https://goes-app.cbp.dhs.gov.³ CBP uses the same pre-screening process to vet an applicant regardless of whether he or she is applying to the Global Entry, SENTRI, or NEXUS program. CBP officers review the applicant's information during the application processing to ensure that the applicant is in compliance with U.S. customs, immigration and agriculture laws and regulations, and compare the information against various government criminal, antiterrorism, and other databases. If the applicant meets the eligibility criteria of the relevant program then the applicant will be notified via TTP Systems that he or she is conditionally approved and can schedule a personal interview with a CBP officer at a CBP enrollment center or (for Global Entry only) at a specified “Enrollment on Arrival” airport.

³ Alternatively, SENTRI applicants may currently submit a paper application, Form 823S, via mail or in person at the enrollment center, and NEXUS applicants may submit a paper application to the Canada Border Services Agency.

An applicant is notified via TTP Systems if the application is denied. An applicant can contest his or her denial or removal from a CBP trusted traveler program by initiating the redress process through the DHS Traveler Redress Inquiry Program (DHS TRIP), https://www.dhs.gov/dhs-trip, or by contacting the Trusted Traveler Ombudsman via a reconsideration request filed through TTP Systems, https://ttp.cbp.dhs.gov. If the applicant is accepted into the Global Entry, SENTRI, or NEXUS program, CBP mails the applicant his or her Western Hemisphere Travel Initiative (WHTI)-approved Radio Frequency Identification (RFID) trusted traveler card.⁴

⁴ WHTI implements a statutory mandate to require all travelers to present a passport or other document that denotes identity and citizenship when entering the United States. See Intelligence Reform and Terrorism Prevention Act of 2004, Public Law 108-458, 7209, 118. Stat. 3638, 3823, as amended. The goal of WHTI is to facilitate entry for U.S. citizens and legitimate foreign visitors while strengthening U.S. border security by providing standardized documentation that enables CBP to quickly and reliably identify a traveler. WHTI-compliant documents include valid U.S. passports, passport cards, trusted traveler program cards, and others.

The Global Entry, SENTRI, and NEXUS programs have a five-year membership period. During this five-year membership period, CBP continually vets participants to ensure that the individuals comply with the program requirements.

Currently, the fees, the fee charged to certain minors, the fee payment schedule, and the application process for the Global Entry, SENTRI, and NEXUS programs vary. CBP would like to harmonize the fee and application procedures for these programs. This proposed rule describes in detail the SENTRI and Global Entry programs and the proposed regulatory changes to both programs to achieve such harmonization. Pursuant to 8 U.S.C. 1753(c), fee setting for services and other administrative requirements relating to joint U.S.-Canadian projects such as the NEXUS program are exempt from the requirements of the Administrative Procedure Act and the Paperwork Reduction Act, but fees and forms established for such projects shall be published as a notice in the Federal Register. As a result, CBP will be issuing a separate Federal Register notice regarding the changes to the NEXUS fee.

A. Global Entry Program—Current Requirements

Section 7208(k) of the Intelligence Reform and Terrorism Prevention Act of 2004 (IRTPA), 118 Stat. 3638, as amended by section 565 of the Consolidated Appropriations Act, 2008, 121 Stat. 1844, codified at 8 U.S.C. 1365b, authorized the Secretary of Homeland Security to promulgate regulations creating a program to expedite the processing of pre-approved travelers across the borders of the United States. CBP first established the Global Entry program as a pilot program in 2008.⁵ On February 6, 2012, CBP published a final rule in the Federal Register (77 FR 5681) to establish the Global Entry program as an ongoing voluntary trusted traveler program. A new section 235.12 of title 8 of the CFR (8 CFR 235.12) was added that includes a detailed description of the program, the eligibility criteria, the application process, arrival procedures, the reasons an applicant or participant may be denied, removed or suspended from the program, and the redress procedures.⁶

⁵ See 73 FR 19861 (April 11, 2008).

⁶ CBP no longer uses a suspension procedure. Therefore, this notice of proposed rulemaking proposes to revise section 235.12 to reflect the current procedures.

The Global Entry program allows pre-approved travelers dedicated CBP processing at designated airports, currently through the use of automated kiosks. Eligibility for participation in Global Entry is limited to U.S. citizens, U.S. lawful permanent residents, U.S. nationals,⁷ and certain nonimmigrant aliens from countries that have entered into arrangements with CBP concerning international trusted traveler programs. When citizens or nationals of a foreign country become eligible to apply for Global Entry, CBP publishes a notice in the Federal Register announcing the expansion of Global Entry to that foreign country. To participate in the Global Entry program, individuals must apply and pay a non-refundable $100 fee via the TTP Systems website, https://ttp.cbp.dhs.gov.⁸ Global Entry membership is for five years and participants may apply for renewal. Renewal of the Global Entry program requires the submission of a new application, and payment of the non-refundable $100 fee. An individual is ineligible to participate in the Global Entry program if CBP, in its sole discretion, determines that the individual presents a potential risk for terrorism, criminality (such as smuggling), or CBP is unable to establish that the applicant can be considered low-risk. Reasons why an applicant may not qualify for participation include, but are not limited to:

⁷ U.S. nationals include certain individuals who are not U.S. citizens. See Sections 101 and 308 of the Immigration and Nationality Act.

⁸ TTP Systems is the replacement system for GOES, which was previously available at the following website: https://goes-app.cbp.dhs.gov. TTP Systems online payments are secured through the Federal Government's online payment system Pay.gov. Pay.gov is a system by which parties can make secure electronic payments to many Federal Government agencies.

• The applicant provides false or incomplete information on the application;

• The applicant has been arrested for, or convicted of, any criminal offense or has pending criminal charges or outstanding warrants in any country;

• The applicant has been found in violation of any customs, immigration, or agriculture regulations, procedures, or laws in any country;

• The applicant is the subject of an investigation by any federal, state, or local law enforcement agency in any country;

• The applicant is inadmissible to the United States under applicable immigration laws or has, at any time, been granted a waiver of inadmissibility or parole;

• The applicant is known or suspected of being or having been engaged in conduct constituting, in preparation for, in aid of, or related to terrorism; or

• The applicant cannot satisfy CBP of his or her low-risk status or meet other program requirements.

After completion of the application and submission of the fee, an applicant will be notified if he or she is conditionally approved or denied acceptance into the Global Entry program. If the applicant is denied acceptance into the program, he or she may choose one of the methods of redress described in 8 CFR 235.12(k). If the applicant is conditionally accepted into the Global Entry program, then he or she will be notified via TTP Systems that he or she needs to appear for a personal interview. The applicant may either schedule an interview at a CBP trusted traveler enrollment center or present himself or herself for an interview upon arrival in the United States at a participating “Enrollment on Arrival” airport. The second option is available to an applicant who arrives in the United States on an international flight. A list of CBP enrollment centers is available at http://www.cbp.gov/global-entry/enrollment-centers. A list of “Enrollment on Arrival” airports is available at https://www.cbp.gov/travel/trusted-traveler-programs/global-entry/enrollment-arrival.

Minors under the age of 18 who meet the general eligibility criteria and have the consent of a parent or legal guardian are eligible to participate in Global Entry. Minors under the age of 18 must complete the application and pay the non-refundable $100 fee. As is the case for all applicants, CBP must be able to conduct the requisite vetting of the applicant, including collection of the required fingerprints needed to conduct the biometric-based background checks. For minors under the age of 18, a parent or legal guardian must be present at the time of the interview.

NEXUS participants, and SENTRI participants who are U.S. citizens and U.S. lawful permanent residents may utilize the Global Entry kiosks as a benefit of their NEXUS or SENTRI membership. Mexican nationals who are SENTRI participants may only utilize the Global Entry kiosks upon successful completion of a thorough risk assessment by the Mexican Government.⁹ A list of the select airports that currently offer Global Entry arrival processing is available at https://www.cbp.gov/travel/trusted-traveler-programs/global-entry/locations.

⁹ See Utilization of Global Entry Kiosks by NEXUS and SENTRI Participants Federal Register notice, December 29, 2010 (75 FR 82202), for further information.

As a benefit of Global Entry membership, a Global Entry participant may utilize the SENTRI lanes at the U.S.-Mexico border ¹⁰ and may enter the United States at the northern border using the NEXUS lanes ¹¹ and the NEXUS marine reporting locations. To access the SENTRI lanes, the NEXUS lanes and the NEXUS marine reporting locations, an RFID card is needed.¹² New and renewing Global Entry participants are automatically issued a Global Entry RFID card at no additional cost. A $25 fee is charged for a replacement RFID card. When a replacement card is requested, the original RFID card is deactivated and is no longer functional. A Global Entry RFID card does not allow a participant dedicated processing into Canada at the automated air kiosks, NEXUS lanes or NEXUS marine reporting locations.¹³ In order to obtain dedicated processing into Canada, an individual must separately apply to the NEXUS program, undergo Canadian vetting, be interviewed by the CBSA and pay the $50 NEXUS application fee.

¹⁰ A Global Entry participant with an RFID card may travel as a passenger in a vehicle utilizing the SENTRI lanes. However, a Global Entry participant may not drive a vehicle into the United States using the SENTRI lanes unless that vehicle has been approved by CBP for use in the SENTRI lanes. More information about this process is in Section III.B. SENTRI Program.

¹¹ It is not necessary to register a vehicle to utilize the NEXUS lanes. If an individual is a NEXUS, SENTRI or Global Entry participant with an RFID card then that individual may utilize the NEXUS lanes into the United States either as a passenger or driving a vehicle.

¹² For more details about the benefits provided to Global Entry, NEXUS and SENTRI participants, please see http://www.cbp.gov/global-entry/faqs.

¹³ Note that Global Entry RFID cards are only used for entry into the United States at NEXUS and SENTRI dedicated lanes at land borders. Global Entry kiosks at airports accept only passports and permanent resident cards for entry into the United States.

B. SENTRI Program—Current Requirements

The SENTRI program allows dedicated processing at specified land border ports along the U.S.-Mexico border for pre-approved travelers. As described in the Executive Summary, the SENTRI program was developed by the legacy INS as part of a series of programs collectively referred to as PORTPASS. PORTPASS was a series of programs designed to identify pre-registered, low-risk travelers and permit them to enter the United States within predictable wait times by reducing the interaction between the traveler and the inspector. One of the main purposes of the PORTPASS programs was to ease commuter traffic at land ports of entry by providing dedicated commuter lanes (DCLs) to facilitate the rapid passage of low-risk, frequent travelers. When the PORTPASS programs were transferred from the legacy INS to DHS,¹⁴ several of the programs that collectively operated as PORTPASS ceased operations (though some, including the Free and Secure Trade (FAST) program for commercial vehicles, are still operating under PORTPASS ¹⁵). With the transfer of functions from the INS to DHS and advances in technology, most of the procedures set forth in the PORTPASS regulation, 8 CFR 235.7, are no longer applicable to SENTRI applicants and participants. The current SENTRI eligibility requirements, application procedures, and redress methods have been developed by CBP over time to reflect the establishment of the GOES website (now TTP Systems), the creation of the CBP trusted traveler enrollment centers, the modernizing of the DCL lanes, and the creation of the Global Entry and NEXUS programs. The current SENTRI program's application process, requirements and benefits closely align with those for the Global Entry and NEXUS trusted traveler programs. The details of the current SENTRI program are set forth below and are also available at http://www.cbp.gov/travel/trusted-traveler-programs/sentri.

¹⁴ The Homeland Security Act of 2002, Public Law 107-296, transferred the functions of the INS to DHS.

¹⁵ PORTPASS is still used as the basis for a portion of the FAST program. FAST is primarily a commercial cargo clearance program, but the drivers must be separately screened for security risk. This security screening takes place pursuant to PORTPASS.

1. General Requirements

SENTRI participants have access to specific, dedicated primary lanes into the United States from Mexico. An RFID card is required for a participant to access the dedicated SENTRI lanes. Upon acceptance into the SENTRI program, a participant is issued a SENTRI RFID card at no additional cost. A $25 fee is charged to replace the RFID card if lost. When a replacement card is requested, the original RFID card is deactivated and is no longer functional.

SENTRI membership is for five years. SENTRI participants may apply for renewal. Renewal of the SENTRI program requires the submission of a new application, and payment of the SENTRI fee. Just as with the Global Entry program, an individual is ineligible to participate in the SENTRI program if CBP, at its sole discretion, determines that the individual presents a potential risk for terrorism, criminality (such as smuggling), or CBP is unable to establish that the applicant can be considered low-risk. The specific reasons why an applicant may not qualify for participation in the SENTRI program are the same as for the Global Entry program.

Although most of the PORTPASS procedures no longer apply to the SENTRI program, SENTRI applicants still pay fees based on the PORTPASS fee provisions. The current SENTRI fee is $122.25 and is comprised of three separate payments that the applicant pays at various stages in the application process. The fee is comprised of a $25 application fee, an $82.75 DCL fee and a $14.50 Federal Bureau of Investigation (FBI) fingerprinting fee. Pursuant to 8 CFR 103.7(b)(1)(ii)(G), the application fee is payable before the application is processed. Section 103.7(b)(1)(ii)(G) also authorizes the collection of an FBI fingerprinting fee, if required. Section 103.7(b)(1)(ii)(A) requires the DCL systems costs fee. Applicants may apply for the SENTRI program online via the TTP Systems website, https://ttp.cbp.dhs.gov, or via the paper application, Form 823S. The paper application and fee can be mailed to CBP or submitted in person at the enrollment center.

If the applicant wishes to drive his or her vehicle into the United States using the SENTRI lanes, the applicant must register the vehicle by providing information about the vehicle on the application and CBP will determine whether to approve the vehicle. The approved vehicle will be subject to an inspection when the vehicle enters the United States at the U.S.-Mexico border crossing. This inspection will occur at secondary inspection during one of the vehicle's crossings into the United States at CBP's discretion.¹⁶ It is within CBP's sole discretion whether to approve a vehicle for the SENTRI program. CBP reserves the right to revoke the approval at the time of inspection if, in its discretion, it finds any reason the vehicle should not be approved. CBP no longer issues vehicle decals or transponders for vehicles using the SENTRI lanes since this technology is obsolete. When a SENTRI, NEXUS or Global Entry participant with an RFID card approaches the border in the SENTRI lane, the system automatically identifies the vehicle and the identity of the occupants of the vehicle. An individual may have a maximum of four approved vehicles for use in the SENTRI lanes. One vehicle may be registered for approval during the application or renewal process at no additional charge. The fee to register additional vehicles or to register the first vehicle after the initial application or renewal process is $42 per vehicle. This fee is charged per vehicle registered, regardless of whether that vehicle is ultimately approved for use in the SENTRI lanes. The additional vehicle fee may be paid online via the TTP Systems or in person at the enrollment center.

¹⁶ In accordance with the United States Government Accountability Office (GAO)'s recommendation regarding its recent review conducted of the CBP trusted traveler programs and CBP's goal of harmonizing the three CBP trusted traveler programs, CBP has eliminated the requirement for vehicle inspections at the enrollment center. See GAO Report 14-483, Trusted Travelers: Programs Provide Benefits, but Enrollment Processes Could be Strengthened (May 2014), available at: http://www.gao.gov/products/GAO-14-483.

After completion of the application and submission of the application and FBI fingerprinting fees, an applicant will be notified if he or she is conditionally approved or denied acceptance into the SENTRI program. An applicant who is denied may seek redress.¹⁷ If the applicant is conditionally accepted, he or she will be notified to schedule an interview at a SENTRI enrollment center. Before the start of the interview, the SENTRI applicant must pay the DCL fee either via the TTP Systems or in person at the enrollment center. The list of CBP enrollment centers is available at https://www.cbp.gov/travel/trusted-traveler-programs/sentri/enrollment-centers.

¹⁷ As stated earlier in the background section, currently, an applicant who is denied may seek redress through DHS TRIP or by contacting the Trusted Traveler Ombudsman via a reconsideration request filed through TTP Systems.

As a benefit of SENTRI membership, a SENTRI participant who is a U.S. citizen or a U.S. lawful permanent resident may also utilize the Global Entry kiosk. Mexican nationals who are SENTRI participants may only utilize the Global Entry kiosks upon successful completion of a thorough risk assessment by the Mexican Government.¹⁸ Additionally, SENTRI participants may utilize the NEXUS lanes and NEXUS marine reporting locations to enter the United States. However, in order to obtain dedicated processing into Canada using the NEXUS lanes, automated air kiosks and NEXUS marine reporting locations, a SENTRI participant must separately apply to the NEXUS program, undergo Canadian vetting, be interviewed by the CBSA, and pay the $50 NEXUS application fee.

¹⁸ See Utilization of Global Entry Kiosks by NEXUS and SENTRI Participants Federal Register notice, December 29, 2010 (75 FR 82202) for further information.

2. SENTRI Family Option Plans

The SENTRI program includes family option plans that cap the amount that a family is required to pay to apply to the SENTRI program. The SENTRI program uses the fee caps specified in the PORTPASS fee regulations. The PORTPASS regulations define “family” narrowly and traditionally as “husband, wife, and minor children under 18 years of age.” For purposes of the SENTRI program, CBP considers a “family” to be a mother, father and minors under the age of 18. This includes single parents.

The maximum DCL fee a family must pay is $165.50.¹⁹ When a family applies to the SENTRI program each individual family member is charged the $82.75 DCL fee until the $165.50 family cap is reached. For example, a mother currently applying to the SENTRI program with her three minor children will be charged a $165.50 DCL fee for the entire family. The DCL fee is $82.75 per individual if not applying as a family unit. There is also a family cap set for the application fee. While the application fee for an individual is $25 per applicant, the maximum amount payable by a family is $50. This $50 family cap is set forth in the PORTPASS fee regulation, 8 CFR 103.7(b)(1)(ii)(G). When a family applies to the SENTRI program, each individual family member is charged the $25 application fee until the $50 family cap is reached. There are no family caps with respect to the FBI fingerprinting fee. The FBI fingerprinting fee is currently dependent on the age of the applicant. All applicants 14 years of age and older are required to pay the FBI fingerprinting fee. Applicants under 14 years of age are exempt from the FBI fingerprinting fee.

¹⁹ Prior to October 2012, the FBI fingerprinting fee was $17.25. At that time, the total SENTRI fee of $122.25 was broken down as follows: $25 application fee, $17.25 FBI fingerprinting fee, and $80 DCL systems cost fee (as per 8 CFR 103.7(b)(1)(ii)(A)). Pursuant to a Federal Register Notice published by the FBI on December 20, 2011 (76 FR 78950), the FBI fingerprinting fee decreased to $14.50. In October 2012, CBP changed its internal accounting regarding the allocation of the total $122.25 SENTRI fee. Specifically, CBP reallocated the $2.75 from the decreased FBI fingerprinting fee to the DCL systems cost fee, bringing the DCL systems cost fee to $82.75. Due to this change in the individual DCL fee, the family maximum also increased to $165.50 (from $160).

Whether or not minors pay a fee to apply for the SENTRI program, all minors need to have the consent of a parent or legal guardian to be eligible to participate, must complete the application, and are subject to the requisite vetting, including the collection of fingerprints. For minors under the age of 18, a parent or legal guardian must be present at the time of the interview.

C. NEXUS Program—Current Requirements

The NEXUS program is a joint trusted traveler program between the United States and Canada that allows pre-approved travelers dedicated processing by both U.S. and Canadian officials at specified locations. Currently, the non-refundable application fee is $50. Minors under the age of 18 are exempt from payment of the application fee.

As a benefit of NEXUS membership, NEXUS participants may utilize the Global Entry kiosks.²⁰ Additionally, NEXUS participants may utilize the SENTRI lanes.²¹ Information about the NEXUS procedures, fees, and other information about the NEXUS program are available at http://www.cbp.gov/travel/trusted-traveler-programs/nexus.

²⁰ CBP must collect the individual's fingerprints and have the most recent passport information submitted on TTP Systems in order for these participants to utilize the Global Entry kiosks. See Utilization of Global Entry Kiosks by NEXUS and SENTRI Participants Federal Register notice, December 29, 2010 (75 FR 82202), for further information.

²¹ A NEXUS participant may travel as a passenger in a vehicle using the SENTRI lanes. However, a NEXUS participant may not drive a vehicle into the United States using the SENTRI lanes unless that vehicle has been approved by CBP for use in the SENTRI lanes. More information about this process is in Section III. B. SENTRI Program.

D. Summary of Benefits for the NEXUS, SENTRI and Global Entry Programs

As summarized in the chart below, a Global Entry, SENTRI, or NEXUS participant can take advantage of certain benefits of the other two CBP trusted traveler programs. Please refer to Sections III. A., III. B., and III. C. for more details about these benefits.

Table 1—Trusted Traveler Programs Shared Benefits
Dedicated processing through: | Trusted traveler program: SENTRI | Trusted traveler program: Global Entry | Trusted traveler program: NEXUS
SENTRI Lanes | X | X | X
Global Entry Kiosks | X * | X | X
NEXUS Lanes (into U.S.) | X | X | X
NEXUS Marine Reporting Locations (into U.S.) | X | X | X
NEXUS Lanes (into Canada) |  |  | X
NEXUS Marine Reporting Locations (into Canada) |  |  | X
Automated Air Kiosks (into Canada) |  |  | X
* SENTRI participants who are U.S. citizens and lawful permanent residents may use the Global Entry kiosks. SENTRI participants who are Mexican nationals may only use this benefit upon successful completion of a thorough risk assessment by the Mexican government.

IV. Proposed Changes to the Global Entry and SENTRI Programs

A. Harmonizing the CBP Trusted Traveler Programs

CBP would like to harmonize the application fee, the application fee paid by minors, the fee payment schedule and the application processes for the NEXUS, SENTRI and Global Entry programs.²² Also, the current fees are no longer sufficient to recover CBP's costs to administer the programs. The proposed changes to the Global Entry and SENTRI programs are described below.

²² Any changes to the NEXUS fee will be announced in a separate Federal Register notice.

1. Proposal To Harmonize the Global Entry and SENTRI Fees

CBP has performed a fee study entitled “CBP Trusted Traveler Programs Fee Study” to determine the amount of the fee that is necessary to recover the costs associated with application processing for the Global Entry, SENTRI, and NEXUS programs. CBP determined that, in making the fee uniform across the programs, a fee of $120 is appropriate and necessary to recover a reasonable portion of these costs.²³ The SENTRI fee would be decreased from its current fee of $122.25 to $120. The Global Entry fee would be increased from its current fee of $100 to $120. The proposed $120 application fee would apply to new applicants and to participants renewing their memberships in both the SENTRI and Global Entry programs. As described below, these non-refundable fees would be paid to CBP at the time of the application through the TTP Systems. These fees would be reflected in the Global Entry fee provision in 8 CFR 103.7, a proposed SENTRI fee provision in 8 CFR 103.7, in the Global Entry program regulation, 8 CFR 235.12, and the SENTRI program proposed regulation, 8 CFR 235.14.

²³ The NEXUS fee is split between the United States and Canada. As a result, the United States will only receive part of the revenue necessary to recover its costs for the NEXUS program. Please see the fee study entitled “CBP Trusted Traveler Programs Fee Study”, included in the docket of this rulemaking (docket number USCBP-2020-0035) for additional details.

2. Proposal To Exempt Certain Minors From Payment of the Application Fee

The Global Entry, SENTRI, and NEXUS programs are not aligned with respect to whether minors are charged an application fee. The SENTRI program has a complex family option plan, the Global Entry program charges minors the full application fee and the NEXUS program exempts all minors from payment of the application fee. This disparity results in families choosing a program based on financial considerations instead of choosing a program based on the features and benefits of the program. To eliminate this disparity and to reflect the costs to CBP to operate these programs, CBP seeks to create a uniform fee and a uniform fee charged to minors.

In this document, CBP is proposing to exempt a minor under the age of 18 who applies to the Global Entry or SENTRI program from payment of the application fee if the minor's parent or legal guardian applies concurrently with the minor or if the parent or legal guardian is an existing member of the same program to which the minor is applying. If the minor's parent or legal guardian is already an existing member, the minor would be required to enter the parent or legal guardian's name and trusted traveler number to allow CBP to verify this information. If a minor applies to the Global Entry or SENTRI program without a concurrent parent or legal guardian application and if his or her parent or legal guardian is not already a participant in the same program to which the minor is applying, the minor would be charged the full application fee of $120. This exemption for minors would minimize the costs for families enrolling in the Global Entry, SENTRI, and NEXUS programs.

All minors applying to the Global Entry, SENTRI, or NEXUS programs, including those who are exempt from payment of the application fee, must have the consent of a parent or legal guardian to be eligible to participate, must complete the application, and would be subject to the requisite vetting, including the collection of fingerprints. For minors under the age of 18, a parent or legal guardian must be present at the time of the interview with a CBP officer.

In order to incorporate this fee exemption for certain minors, CBP is proposing several regulatory amendments. With respect to the Global Entry program, CBP is proposing to amend the fee provision, 8 CFR 103.7(b)(1)(ii)(M), and the Global Entry program regulation, 8 CFR 235.12(d)(2). To align SENTRI with the other programs, CBP is proposing to eliminate the SENTRI family option plans described above. The family option plans offer minor children discounted rates or even free enrollment based on their parent(s)' application to the SENTRI program. Family option plans are overly complex, do not provide options for minors with legal guardians and make arbitrary age distinctions that are no longer used by CBP. The SENTRI family option plans would be replaced by new provisions regarding the SENTRI fee in 8 CFR 103.7(b)(1)(ii)(P) and proposed 8 CFR 235.14(c)(3). These provisions would incorporate the proposed SENTRI application fee and the fee exemption for certain minors under 18.

B. Proposal To Establish a New Regulation for the SENTRI Program

As discussed previously, when the legacy INS developed the SENTRI program as part of a series of programs referred to as PORTPASS, the requirements and procedures that govern the PORTPASS program set forth in 8 CFR 235.7 were applicable to the SENTRI program. With the transfer of functions from the INS to DHS, advancing technology and the expansion of the CBP trusted traveler programs, the SENTRI program has evolved, and its requirements and procedures have changed. The vast majority of SENTRI applicants apply via the TTP Systems website using an application that is common to all the CBP trusted traveler programs. These application procedures are not reflected in the PORTPASS regulation, 8 CFR 235.7. Additionally, CBP has established CBP trusted traveler enrollment centers, modernized the DCLs utilized by SENTRI participants, and established common methods of redress for all three CBP trusted traveler programs. The requirement for a personal interview at the enrollment center, the updates to the DCLs, and the redress methods are also not reflected in the PORTPASS regulations, 8 CFR 235.7.

This document proposes to add a new section 8 CFR 235.14, modeled after the Global Entry regulation, 8 CFR 235.12, that would incorporate the current parameters, requirements and application procedures of the SENTRI program and supersede 8 CFR 235.7 for purposes of the SENTRI program. Proposed 8 CFR 235.14 includes a general description of the SENTRI program, the eligibility requirements, application procedures, redress procedures, and the requirement to pay an application fee as specified in a new fee section, 8 CFR 103.7(b)(1)(ii)(P). Except for the provisions concerning the eligibility requirements, the registration of vehicles and the use of special lanes for approved vehicles, the other provisions (i.e., the disqualifying criteria, application procedures, and the available redress procedures) are essentially the same as in the Global Entry regulation.²⁴ The provisions that apply only to the SENTRI program are described in the next paragraph.

²⁴ There are minor differences regarding the two provisions. First, proposed 8 CFR 235.14 has a provision about denial and removal from the program whereas the current Global Entry regulation covers denial, removal and suspension from the program (emphasis added). Second, the redress provision in proposed 8 CFR 235.14 specifies two possible methods of redress for individuals whose application is denied or whose participation is terminated whereas the current Global Entry regulation specifies the same two possible methods of redress for individuals whose applications are denied, or whose participation is suspended or terminated (emphasis added). This notice of proposed rulemaking proposes to revise the Global Entry regulations to remove all references to suspensions because CBP no longer uses the suspension procedure. Additionally, the current Global Entry regulation allows an applicant to seek redress by writing to the enrollment center where his or her interview was conducted. This redress process is no longer used. This notice of proposed rulemaking proposes to revise the Global Entry regulations to reflect the current process.

The current eligibility criteria for the SENTRI program are set forth in proposed section 235.14(b)(1). Any individual of any nationality is eligible to apply for the SENTRI program. Proposed section 235.14(c) sets forth the application procedures including that a vehicle must be approved by CBP to utilize the SENTRI lanes. Proposed section 235.14(e) states that a SENTRI participant will be issued an RFID or other CBP approved document that grants the participant access to specific, dedicated primary lanes into the United States. The proposed regulation provides the website where the SENTRI lanes are identified and informs the SENTRI participant that a vehicle must be approved by CBP to utilize the dedicated SENTRI lanes.

The proposed regulation also sets forth the new fee payment schedule, and the new fee exemption for certain minors. This document also proposes to add a new provision, 8 CFR 103.7(b)(1)(ii)(P), which sets forth the new fee, the new fee charged to minors, and all relevant fee details for the SENTRI program.

C. Additional Proposed Changes to the SENTRI Program

1. Proposal To Change the Fee Payment Schedule for the SENTRI Program

CBP is proposing to change the current SENTRI fee payment schedule. As discussed above, currently, the SENTRI fee is comprised of three separate amounts (an application fee, a DCL fee, and an FBI fingerprinting fee) that the applicant pays at various stages in the application process. CBP is proposing to require instead that the SENTRI applicant pay a non-refundable application fee of $120 at the time the applicant submits the application via TTP Systems.

As discussed earlier, CBP performed a new fee study of the Global Entry, SENTRI, and NEXUS programs and has determined that a uniform fee of $120 is appropriate and necessary to recover a reasonable portion of the costs associated with application processing for these programs. This fee study was necessary to reevaluate the fees due to the expansion of the programs, advances in technology, and the shared benefits across the programs. For example, as technology has advanced, the technology deployed and costs associated with the creation of dedicated commuter only lanes is no longer necessary. CBP is capable of converting any crossing lane into a lane that may be used for trusted travelers. Due to this advancement, CBP has determined that the fee for the Global Entry, SENTRI, and NEXUS programs should only incorporate those costs associated with the application process. The costs of processing the application include the cost of TTP Systems, the FBI fingerprinting fee, the enrollment centers, the vetting and other relevant costs. The new fee does not include any costs related to DCLs. See the CBP Trusted Traveler Programs Fee Study for the entire breakdown of the proposed fee. Therefore, CBP has determined that it is no longer appropriate to charge SENTRI applicants the three separate payments under the current fee payment schedule.

CBP is also proposing to change the fee payment schedule for the SENTRI program in order to align the SENTRI application process with the application process for the Global Entry and NEXUS programs. The Global Entry and NEXUS programs have a single application fee that is payable in full at the time the applicant submits the application via TTP Systems whereas SENTRI applicants pay only a portion of the SENTRI fee when the application is submitted and other portions later in the process. CBP is proposing to change the fee payment schedule for the SENTRI program to similarly require a single application fee be paid in full at the time the applicant submits the application.

Thus, CBP is proposing to add section 8 CFR 103.7(b)(1)(ii)(P) to reflect that the $120 fee encapsulates the entire SENTRI fee and is payable at application submission. Proposed section 8 CFR 235.14(c)(3) would state that the $120 non-refundable SENTRI fee must be paid to CBP at the time of the application submission through TTP Systems or other CBP-approved process.

2. Proposal To Mandate Electronic Submission of the SENTRI Program Application and Payment of Fees

Currently, an applicant to the SENTRI program may apply online via the TTP Systems website or by submitting a paper application, Form 823S. If the applicant chooses to submit a paper application, the application fee can either be mailed to CBP or submitted in person at an enrollment center. CBP is proposing to eliminate the paper application as an option for SENTRI applicants. SENTRI applicants would be required to apply to the SENTRI program online via the TTP Systems website, https://ttp.cbp.dhs.gov. Eliminating the paper SENTRI application would complete the harmonization of the application submission process for the three programs,²⁵ streamline the application process, reduce the burden on CBP officers, and expedite the application process.

²⁵ A NEXUS applicant may submit a paper application to apply to the NEXUS program. This is a CBSA form, not a CBP form. As such, the paper NEXUS application is sent to CBSA, processed and inputted by CBSA. CBP's NEXUS application and application submission are completely electronic.

Additionally, CBP is proposing to require applicants to pay the SENTRI application fee through the TTP Systems website at the time of online application and not at the enrollment center. The proposed elimination of the paper SENTRI application makes this change possible.

CBP is also proposing changes to the procedures for paying the additional vehicle fee. Although there is no fee for a SENTRI applicant to register one vehicle for use in the SENTRI lanes during the initial application or renewal process, there is a $42 fee to register each additional vehicle and to register the first vehicle after the initial application or renewal process. This proposed rule does not change the amount of the additional vehicle fee. However, this proposed rule would change the way the fee is paid. Currently, a SENTRI applicant or participant may pay this fee electronically via TTP Systems or in person at the enrollment center. CBP is proposing to require payment of the additional vehicle fee electronically via TTP Systems. This is because the vehicle inspection is no longer performed at the enrollment center. As discussed above, if CBP approves the vehicle for use in the SENTRI lanes, the vehicle is subject to a vehicle inspection at secondary inspection during one of the vehicle's crossings into the United States. Requiring an applicant or participant to pay the additional vehicle fee online via TTP Systems ensures that there is an electronic record of the payment when the vehicle arrives at secondary inspection. It also further harmonizes the Global Entry, SENTRI, and NEXUS programs. Global Entry and NEXUS participants who wish to register their vehicle for use in the SENTRI lanes after the initial application or renewal process would continue to pay the additional vehicle fee online via TTP Systems. These SENTRI application procedures are included in proposed 8 CFR 235.14(c).

D. Additional Proposed Changes to the Global Entry Program

1. 8 CFR 235.12(g)

Under the current regulation, a Global Entry participant must follow certain procedures upon arrival in the United States. These arrival procedures are set forth in 8 CFR 235.12(g). They include proceeding to the Global Entry kiosk, following the on-screen instructions, and declaring all articles brought into the United States. For the reasons discussed below, CBP is proposing to revise this paragraph to eliminate the reference to “arrival in the United States”. CBP is also proposing to remove the reference, throughout the regulation, to Global Entry “kiosks” and replace it with the phrase “Global Entry Processing” to allow for the applicable facilities and technology to evolve without need to revise the regulations. For this same reason, CBP is also proposing to remove the phrase “on-screen” from the phrase concerning following instructions and instead state that the participant must “follow all CBP instructions.”

When the regulation was first issued, CBP did not offer Global Entry at airports located in the U.S. territories or at preclearance facilities in foreign countries. Due to the success of the Global Entry program and to facilitate the travel of additional Global Entry, NEXUS and qualified SENTRI participants, CBP now offers Global Entry in certain U.S. territories as well as at preclearance facilities in foreign countries.

The expansion of Global Entry to U.S. territories allows dedicated CBP processing of Global Entry, NEXUS and qualified SENTRI participants into these territories. However, pursuant to 19 CFR 7.2(b), CBP does not perform a customs function in certain U.S. territories. Accordingly, CBP does not collect customs declarations in those territories. As the customs declaration does not apply in all Global Entry locations, CBP is proposing to amend 8 CFR 235.12(g) as set forth in section VII of this Notice of Proposed Rulemaking (NPRM), to eliminate the reference to customs declarations.

The expansion of Global Entry to preclearance facilities in foreign countries also allows select foreign airports with preclearance facilities to provide dedicated CBP processing for Global Entry, NEXUS and qualified SENTRI participants on direct outbound flights to the United States.²⁶ Preclearance facilities are staffed with CBP officers responsible for conducting customs, immigration, and agricultural inspections of passengers, crew, and their goods bound for the United States. Generally, travelers who are inspected at a preclearance facility are permitted to arrive at a U.S. domestic facility and either exit the U.S. domestic terminal upon landing or connect directly to a U.S. domestic flight without further CBP processing. Because the Global Entry processing occurs at a point prior to the traveler's arrival in the United States, CBP is proposing to amend 8 CFR 235.12(g), as set forth below and in section VII of this NPRM, to eliminate the phrase “upon arrival in the United States”.

²⁶ Section 101.5 of title 19 of the CFR (19 CFR 101.5) sets forth a list of CBP preclearance offices in foreign locations. Section 162.8 of title 19 of the CFR (19 CFR 162.8) permits CBP officers stationed in a foreign country at a preclearance facility to exercise such functions and perform such duties as may be permitted by treaty, agreement or law of the country in which the officer is stationed.

2. 8 CFR 235.12(h)

Section 235.12(h) addresses certain examination and inspection issues related to the use of Global Entry. Among other things, it specifies that pursuant to the enforcement provisions of 19 CFR part 162, Global Entry participants may be subject to further CBP examination and inspection at any time during the arrival process. As noted above, CBP does not have customs responsibilities at all Global Entry locations. For this reason, CBP is proposing to amend 8 CFR 235.12(h) to eliminate the reference to 19 CFR part 162. Part 162 concerns, in relevant part, inspections within the customs territory of the United States. Reference to 19 CFR part 162 is not needed in 8 CFR 235.12(h) because the purpose of the paragraph regarding successful use of Global Entry at any location can be more clearly and accurately stated without specific reference to 19 CFR part 162.

3. Other Amendments to 8 CFR 235.12

CBP is also proposing several additional minor changes to 8 CFR 235.12. First, CBP is proposing some language changes to reflect the expansion of Global Entry to preclearance facilities at foreign locations. Because Global Entry now operates in some U.S. territories and preclearance facilities outside the United States, CBP is proposing to remove references to “expedited entry into the United States” and replace them with “dedicated CBP processing.” In addition, CBP no longer refers to members of trusted traveler programs as “low-risk travelers” preferring, instead, the term “pre-approved travelers.” Accordingly, CBP is proposing to update the language in sections 235.12(a), 235.12(b)(2) and 235.12(c) to reflect the above changes.

Additionally, the interview procedures for the Global Entry program have changed slightly. Although section 235.12(e)(1) states that the Global Entry applicant must schedule his or her interview at a Global Entry enrollment center, Global Entry applicants now have another personal interview option. They can also have their personal interview at certain participating airports referred to as “Enrollment on Arrival” airports. The locations of the participating airports can be found at https://www.cbp.gov/travel/trusted-traveler-programs/global-entry/enrollment-arrival. The applicant does not need to schedule the interview in advance, but may only use this option if arriving in the United States on an international flight at one of the “Enrollment on Arrival” airports. CBP is proposing to update the language in 8 CFR 235.12(e)(1) to eliminate the specific reference to Global Entry enrollment centers.

Finally, CBP no longer suspends Global Entry membership. CBP either denies an applicant participation under the disqualifying factors in 8 CFR 235.12(b)(2) or a Global Entry participant is removed from the program if CBP determines under 8 CFR 235.12(j)(2) that such action is necessary. To reflect this change, CBP is proposing to remove all references to “suspend”, “suspension” and “suspended” from sections 235.12(d)(3), 235.12(j) and (k).

E. Proposed Conforming Amendment to 8 CFR 103.7

The current regulations include a provision, 8 CFR 103.7(b)(1)(ii)(A), that specifies the amount of the DCL system costs fee. This fee is for use of DCLs located at specific ports of entry for approved PORTPASS participants in designated vehicles. As discussed above, this fee is one element of the current SENTRI program fee. SENTRI is the only PORTPASS program where CBP charges the DCL fee. If the fee changes proposed in this NPRM are implemented, the entire SENTRI fee will be specified in 8 CFR 103.7(b)(1)(ii)(P). Since CBP would no longer have any other programs which charge the DCL fee, this paragraph (b)(1)(ii)(A) would be unnecessary. Therefore, CBP is proposing to remove and reserve 8 CFR 103.7(b)(1)(ii)(A).

V. Statutory and Regulatory Requirements

A. Executive Orders 13563, 12866, and 13771

Executive Orders 13563 and 12866 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 directs agencies to reduce regulation and control regulatory costs, and provides that “for every one new regulation issued, at least two prior regulations be identified for elimination, and that the cost of planned regulations be prudently managed and controlled through a budgeting process.”

The Office of Management and Budget (OMB) has not designated this rule a “significant regulatory action,” under section 3(f) of Executive Order 12866. Accordingly, OMB has not reviewed it. As this rule is not a significant regulatory action, this rule is exempt from the requirements of Executive Order 13771. See OMB's Memorandum “Guidance Implementing Executive Order 13771, Titled `Reducing Regulation and Controlling Regulatory Costs'” (April 5, 2017). CBP has prepared the following analysis to help inform stakeholders of the impacts of this proposed rule.

1. Purpose of the Rule

CBP operates several voluntary trusted traveler programs that afford pre-approved travelers with dedicated processing travel privileges into the United States. These programs are the Secure Electronic Network for Travelers Rapid Inspection (SENTRI) program, Global Entry program, and NEXUS program. When originally developed, each program had its own application process and participants in one program could not take advantage of the benefits of other programs. As the programs expanded, CBP determined that it was necessary to unify certain aspects of the three trusted traveler programs. Currently, the programs have a nearly identical application process and participants in any one of the programs can enjoy nearly all the benefits of the other two trusted traveler programs. However, regulatory changes are needed to unify certain aspects of the programs.

Although the trusted traveler programs all offer nearly reciprocal benefits with each other, the current SENTRI, Global Entry, and NEXUS fees are $122.25, $100, and $50, respectively. In addition to leading to potential confusion and charging different prices for nearly the same product for prospective and renewing trusted traveler program members, these fees are no longer sufficient to recover CBP's costs to administer the programs. Instead, all unreimbursed costs are currently covered by appropriated funds. As discussed below, CBP has determined that a harmonized fee of $120 is appropriate and necessary to recover a reasonable portion of the costs associated with application processing for these trusted traveler programs.

In addition to ensuring that the trusted traveler programs are better funded, CBP is proposing to revise the SENTRI fee payment schedule; exempt certain minors from payment of the harmonized fee for membership in the SENTRI or Global Entry programs; change certain aspects of the SENTRI program application process; and eliminate the dedicated commuter lane systems cost fee (“DCL fee”) currently applicable only to approved SENTRI members.

2. Background

When originally developed, the SENTRI, Global Entry, and NEXUS programs each had its own application process and participants in one program could not take advantage of the benefits of other programs. As the programs expanded, CBP determined that it was necessary to unify certain aspects of the three trusted traveler programs. Currently, the programs have a nearly identical application process and participants in any one of the programs can enjoy nearly all the benefits of the other two trusted traveler programs. As shown in Table 1 below, NEXUS and certain SENTRI participants are eligible to use Global Entry kiosks and Global Entry participants are eligible to use NEXUS lanes and marine reporting locations when entering the United States and SENTRI lanes. Additionally, SENTRI participants are permitted to use NEXUS lanes and marine reporting locations when entering the United States and NEXUS participants are permitted to use SENTRI lanes.

Table 1—Trusted Traveler Programs' Shared Benefits
Dedicated processing through: | Trusted traveler program: SENTRI | Trusted traveler program: Global Entry | Trusted traveler program: NEXUS
SENTRI Lanes | X | X | X
Global Entry Kiosks | X* | X | X
NEXUS Lanes (into U.S.) | X | X | X
NEXUS Marine Reporting Stations (into U.S.) | X | X | X
NEXUS Lanes (into CAN) |  |  | X
NEXUS Marine Reporting Stations (into CAN) |  |  | X
Automated Air Kiosks (into CAN) |  |  | X
* U.S. citizens and lawful permanent residents may use this benefit. Mexican nationals may only use this benefit upon successful completion of a thorough risk assessment by the Mexican government.

Despite the nearly identical application process and the nearly reciprocal benefits each program has with one another, each of these trusted traveler programs still has its own fee. As such, CBP is proposing to harmonize the application fee for these trusted traveler programs. CBP has determined that a fee of $120 is necessary in order to recover a reasonable portion of the costs associated with application processing for the SENTRI, Global Entry, and NEXUS trusted traveler programs.²⁷ A fee study documenting the proposed fee change, entitled CBP Trusted Traveler Programs Fee Study, has been included in the docket of this rulemaking (docket number USCBP-2020-0035). Table 2 presents the components of the proposed fee. In addition to the proposed fee changes, CBP is proposing to revise the SENTRI fee payment schedule; exempt all minors under 18 years of age from the fee when a parent or legal guardian is already a member of or concurrently applying for SENTRI or Global Entry; require all SENTRI program applicants to apply and pay electronically; require that additional SENTRI program vehicle registrations are paid for electronically; and eliminate the DCL fee currently applicable only to approved SENTRI members.

²⁷ CBP notes that 2/3 of the revenue from NEXUS applicants goes to the United States government and the remaining 1/3 of revenue from NEXUS applicants goes to the Canadian government. Therefore, even though the fee calculated below is set to recover the costs of the program, the United States will only receive 2/3 of the revenue necessary to cover its costs of the NEXUS program. CBP considers the revenue to be sufficient to cover a reasonable portion of the costs. CBP has not adjusted the fee higher to account for this because doing so would cause applicants to SENTRI and Global Entry to subsidize the costs of the NEXUS program.

Table 2—Proposed Trusted Traveler Programs Fee
(1) TTP Systems/GES | $17.17
(2) FBI Fingerprinting | 14.50
(3) Enrollment Center | 52.54
(4) Vetting Center | 14.47
(5) RFID Card | 15.87
(6) HQ Staff, Call Center, and Miscellaneous | 2.54
Sum | 117.09
Calculated Fee, rounded up to the nearest $5.00 | 120.00

Although CBP intends to harmonize the fee for the NEXUS, SENTRI, and Global Entry trusted traveler programs, this proposed rule only concerns changes to the fee for the SENTRI and Global Entry trusted traveler programs. Pursuant to 8 U.S.C. 1753(c), the fee setting of a joint U.S.-Canada project, such as the NEXUS program, is exempt from the Administrative Procedure Act. Accordingly, any changes to the NEXUS fee will be announced in a Federal Register notice.

Below are brief descriptions of the Global Entry and SENTRI trusted traveler programs and an explanation of their current fee structures (for details regarding the NEXUS trusted traveler program, please refer to the NEXUS website at http://www.cbp.gov/travel/trusted-traveler-programs/nexus):

a. SENTRI

The SENTRI program allows pre-approved travelers dedicated CBP processing at specified land border ports along the U.S.-Mexico border. The SENTRI program currently has a fee of $122.25. This fee is comprised of three parts: A $25 application fee, an $82.75 DCL fee, and a $14.50 FBI fingerprinting fee for applicants 14 years of age or older.²⁸ Unlike NEXUS and Global Entry, SENTRI applicants do not pay the entire fee when submitting their application. Initially, a SENTRI applicant is only required to pay the $25 application fee and the $14.50 FBI fingerprinting fee. Payment of the $82.75 DCL fee is only required if a SENTRI applicant is conditionally approved for membership in the program.

²⁸ Source: Email correspondence with CBP's Office of Field Operations on May 23, 2018. Also, on March 19, 2012, the FBI fingerprinting fee decreased from $17.25 to $14.50 (76 FR 78950).

In order to lessen the financial burden for families applying to the SENTRI trusted traveler program, CBP places a cap on the maximum amount that a family is required to pay for the application and DCL components of the SENTRI program fee. As shown in Table 3, these caps are $50 and $165.50, respectively, or the rough equivalent to the cost of two applicants. For the purposes of the SENTRI program, CBP considers a family to be a father, mother, and minors under 18 years of age.

Table 3—SENTRI Fee Family Option Plan
Fee component | Family member | Cost
Application | Father Mother Minors 14-17 years of age Minors under 14 years of age | $25 per person until the maximum family cap of $50 is reached.
DCL | Father Mother Minors 14-17 years of age Minors under 14 years of age | $82.75 per person until the maximum family cap of $165.50 is reached.
FBI Fingerprinting | Father Mother Minors 14-17 years of age Minors under 14 years of age | $14.50. $14.50. $14.50. $0.

In addition to requiring individuals to apply to the SENTRI program, CBP requires that vehicles be approved by CBP for use in SENTRI lanes. The SENTRI program fee includes the registration of one vehicle during the initial application or renewal process. A fee of $42 is required for any additional vehicle to be registered for use in SENTRI lanes (maximum of four vehicles) or for the participant to register his or her first vehicle after the initial application or renewal process. In fiscal year (FY) 2018, CBP received $1.8 million in SENTRI fee revenue.²⁹

²⁹ Source: Email correspondence with CBP's Office of Field Operations on August 2, 2019.

b. Global Entry

The Global Entry program allows pre-approved travelers dedicated CBP processing at designated airports, currently through the use of automated kiosks at designated airports. The Global Entry program currently has a fee of $100. In FY 2018, CBP received $142.7 million in Global Entry fee revenue.³⁰

³⁰ Source: Email correspondence with CBP's Office of Field Operations on August 2, 2019.

3. Costs

This proposed rule would harmonize the fee that is required to be paid when applying for membership in the SENTRI and Global Entry trusted traveler programs. The SENTRI and Global Entry programs currently have fees of $122.25 and $100, respectively. As discussed above, CBP has determined that a fee of $120 is necessary in order to recover a reasonable portion of the costs associated with application processing for CBP's trusted traveler programs. In addition to the proposed fee changes, CBP is proposing to revise the SENTRI fee payment schedule; to exempt all minors under the age of 18 years of age from paying the fee when a parent or legal guardian is already a member of or concurrently applying for SENTRI or Global Entry; require all SENTRI applicants to apply and pay electronically; require that additional SENTRI program vehicle registrations be paid for electronically; and eliminate the DCL fee currently applicable to only approved SENTRI members.

When assessing costs of proposed rules, agencies must take care to not include transfer payments in their cost analysis. As described in OMB Circular A-4, transfer payments occur when “. . . monetary payments from one group [are made] to another [group] that do not affect total resources available to society.” ³¹ Examples of transfer payments include payments for insurance and fees paid to a government agency for services that an agency already provides.³² The SENTRI and Global Entry trusted traveler programs are established programs that already require a fee in order to participate. Current fees do not cover the entire costs to CBP for administering these programs and unreimbursed costs are covered by appropriated funds. Accordingly, the proposed fee changes, including changes in who is exempt, to the trusted traveler programs do not increase overall costs to society as these unreimbursed costs are already being paid by appropriated funds. As such, a change to the fee associated with each program is considered a transfer payment. CBP does recognize, however, that the proposed fee changes may have a distributional impact on individuals and families applying or renewing their membership in either the SENTRI or Global Entry trusted traveler program. In order to inform stakeholders of all potential effects of the proposed rule, CBP has analyzed the distributional effects of the proposed rule below in section “V. A. 4. Distributional Impacts.”

³¹ OMB Circular A-4: https://www.whitehouse.gov/sites/whitehouse.gov/files/omb/circulars/A4/a-4.pdf.

³² Regulatory Impact Analysis: Frequently Asked Questions (FAQ): https://www.whitehouse.gov/sites/whitehouse.gov/files/omb/assets/OMB/circulars/a004/a-4_FAQ.pdf and OMB Circular A-4: https://www.whitehouse.gov/sites/whitehouse.gov/files/omb/circulars/A4/a-4.pdf.

In addition to adjusting the fees required for membership in the SENTRI and Global Entry trusted traveler programs, CBP is proposing to require that all SENTRI applicants apply and pay the requisite application fee electronically and pay the vehicle registration fee electronically.³³ CBP estimates that it takes the same amount of time to complete the electronic SENTRI application and make an electronic payment for the application and registration fee as it does to complete a paper SENTRI application and vehicle registration and make a payment by cash or check at an enrollment center. CBP believes that requiring an electronic application and payment is necessary to increase efficiency of the SENTRI program application and SENTRI vehicle registration process. Additionally, this would further harmonize the three trusted traveler programs because electronic applications and payments are a current CBP requirement for the Global Entry and NEXUS programs.³⁴ CBP recognizes that applying and paying for the SENTRI program and vehicle registrations electronically requires internet access and those without readily available internet access would have to visit a facility that provides internet access to the public (e.g., a library). However, in 2017, CBP received 138,515 SENTRI applications and 56,285 SENTRI vehicle enrollment applications, all of which were submitted electronically.³⁵ Applicants would not likely opt to file electronically if it were more burdensome to do so. For this reason, CBP assumes that no applicants would need to travel to access the internet for the purpose of paying the required fees. To the extent that someone does need to travel, he or she would incur small opportunity and transportation costs. CBP notes that the SENTRI program is a voluntary program and that all individuals must determine if the benefits of receiving dedicated CBP processing either meet or exceed the costs of joining the SENTRI program.

³³ CBP notes, however, that this proposal does not propose changes to the vehicle fee and each SENTRI participant will continue to receive one vehicle registration for no additional cost when either renewing or applying to the SENTRI program.

³⁴ A NEXUS applicant may submit a paper application to apply to the NEXUS program. This is a CBSA form, not a CBP form. As such, the paper NEXUS application is sent to CBSA, processed and inputted by CBSA. CBP's NEXUS application and application submission are completely electronic.

³⁵ Source: Email correspondence with CBP's Office of Field Operations on May 31, 2018.

In addition to proposing that the applications and vehicle registrations be electronic, CBP is proposing to codify SENTRI vehicle inspection changes that have previously been implemented. Formerly, the SENTRI vehicle inspection took place at the enrollment center. On November 17, 2015, CBP changed this inspection process and notified impacted applicants and SENTRI members of the new process by email. Under the new vehicle inspection process, which is still in effect, a vehicle must be approved by CBP for use in the SENTRI lanes and subsequently inspected at secondary inspection during one of the vehicle's crossings into the United States. Despite not having an inspection at the time of enrollment, vehicles remain subject to inspections at the time of crossing through random inspection. This rule's proposed SENTRI vehicle inspection changes would not result in additional benefits or costs to CBP trusted traveler program participants because they are already operational, because the inspection takes the same amount of time, and because no additional trip is needed for the inspection.

Along with the proposed regulatory changes discussed above, CBP is proposing changes to the information collection associated with the trusted traveler programs (OMB control number 1651-0121). The proposed change would require a minor under 18 years of age applying for membership in either the SENTRI or Global Entry trusted traveler program whose parent or legal guardian is already a member of the same program to submit his or her parent's or legal guardian's name and trusted traveler number. As discussed below, in section “V. E. Paperwork Reduction Act,” CBP estimates that this proposed information collection would take approximately two minutes (0.0333 hours). CBP's trusted traveler databases do not track which minors concurrently apply to a trusted traveler program with a parent or legal guardian and which minors apply after a parent or legal guardian joined a trusted traveler program. CBP subject matter experts, however, estimate that two percent of minors (or parents/legal guardians acting on their behalf) apply for membership in a trusted traveler program after a parent or legal guardian has already joined a trusted traveler program and, as such, would be subject to the proposed information collection.

Table 4 shows historical data on the number of minor applicants that enrolled in SENTRI and Global Entry from 2013 to 2018, while Table 5 shows the estimated number of minor SENTRI and Global Entry applications over the period of analysis spanning from 2019 to 2023.³⁶ CBP notes that the data presented in Table 4 for 2018 is a projection and not actual data. CBP based the 2018 through 2023 minor SENTRI enrollment application figures shown in Table 4 and Table 5 on the compound annual growth rate (CAGR) of minor SENTRI enrollment applications between 2013 and 2017, which is equal to six percent, applied to the number of minor SENTRI applications in each prior year. To estimate the 2018 through 2023 minor Global Entry enrollment applications, CBP applied the 2013 to 2017 CAGR of minor Global Entry enrollment applications of 31 percent to the number of minor Global Entry enrollment applications in each prior year.

³⁶ Source: Email correspondence with CBP's Office of Field Operation on May 23, 2018.

Table 4—Historical Minor Enrollment Applications for SENTRI and Global Entry, 2013-2018
Year | Total minor SENTRI enrollment applications | Total minor Global Entry enrollment applications
2013 | 27,665 | 33,712
2014 | 25,013 | 48,287
2015 | 25,003 | 59,670
2016 | 37,102 | 94,631
2017 | 34,924 | 99,232
2018 * | 37,019 | 129,994
Total | 186,726 | 465,526
* Projection.
Note: Totals may not sum due to rounding.

Table 5—Estimated Minor SENTRI and Global Entry Enrollment Applications, 2019-2023
Year | Total minor SENTRI enrollment applications | Total minor Global Entry enrollment applications
2019 | 39,241 | 170,292
2020 | 41,595 | 223,083
2021 | 44,091 | 292,238
2022 | 46,736 | 382,832
2023 | 49,540 | 501,510
Total | 221,203 | 1,569,955
Note: Totals may not sum due to rounding.

As previously stated, CBP subject matter experts estimate that two percent of minors (or parents/legal guardians acting on their behalf) apply for membership in a trusted traveler program after a parent or legal guardian has already joined a trusted traveler program. As such, CBP estimates that only two percent of the projected minor SENTRI and Global Entry applicants shown in Table 5 would be subject to the rule's proposed application information collection requiring the submission of the name and trusted traveler number of an applicant's parent or legal guardian. These applicants would incur a two-minute (0.0333-hour) time burden to submit this information, at a time cost of $0.68 for SENTRI applicants and $1.57 for Global Entry applicants based on their respective hourly time values of $20.40 and $47.10.37 38 Using the projected number of minor SENTRI and Global Entry applicants subject to the new information collection and the estimated time costs to complete the new information collection, CBP estimates that it would cost minors (or parents/legal guardians acting on their behalf) $52,307 in opportunity (or time) costs to complete the proposed information collection over the five-year period of analysis. In the first year (2019), CBP estimates that this rule's new information collection would cost minors (or parents/legal guardians acting on their behalf) $5,881. Table 6 shows the number of minor SENTRI and Global Entry applicants required to submit the name and trusted traveler number of their parents or legal guardians and their annual cost to complete this proposed information collection.

³⁷ $20.40 hourly time value for SENTRI applicants x 0.0333-hour time burden to complete new information collection = $0.68 (rounded); $47.10 hourly time value for Global Entry applicants x 0.0333-hour time burden to complete new information collection = $1.57 (rounded).

³⁸ CBP bases the $20.40 hourly time value for SENTRI applicants on the U.S. Department of Transportation's (DOT) hourly time value of $20.40 for all-purpose, intercity travel by surface modes (except high-speed rail). CBP used this hourly time value for all-purpose, intercity travel by surface modes for SENTRI applicants because SENTRI members use the program to travel to the United States by land. CBP bases the $47.10 hourly time value for Global Entry applicants on the DOT's hourly time value of $47.10 for all-purpose, intercity travel by air and high-speed rail. CBP used this hourly time value for all-purpose, intercity travel by air and high-speed rail for Global Entry applicants because Global Entry members primarily use the program to travel to the United States by air. Source: U.S. Department of Transportation, Office of Transportation Policy. The Value of Travel Time Savings: Departmental Guidance for Conducting Economic Evaluations Revision 2 (2016 Update). “Table 4 (Revision 2—2016 Update): Recommended Hourly Values of Travel Time Savings.” September 27, 2016. Available at https://www.transportation.gov/sites/dot.gov/files/docs/2016%20Revised%20Value%20of%20Travel%20Time%20Guidance.pdf. Accessed August 14, 2019.

Table 6—Total Cost to Complete the Proposed Information Collection for Minors, 2019-2023
[Undiscounted 2019 U.S. Dollars]
Year | 2% of minor SENTRI applicants | 2% of minor Global Entry applicants | Cost to minor SENTRI applicants | Cost to minor Global Entry applicants | Total cost to minor SENTRI and Global Entry applicants
2019 | 785 | 3,406 | $534 | $5,347 | $5,881
2020 | 832 | 4,462 | 566 | 7,005 | 7,571
2021 | 882 | 5,845 | 600 | 9,177 | 9,776
2022 | 935 | 7,657 | 636 | 12,021 | 12,657
2023 | 991 | 10,030 | 674 | 15,747 | 16,421
Total | 4,425 | 31,400 | 3,009 | 49,298 | 52,307
Note: Totals may not sum due to rounding.

Total Costs

Table 7 summarizes the costs of this rule for minors to apply to the SENTRI and Global Entry programs after their parent or legal guardian has already done so. Altogether, this rule would impose a total discounted cost on minors from 2019 to 2023 of $44,356 in present value and $10,110 on an annualized basis (using a 7 percent discount rate and 2019 U.S. dollars).

Table 7—Total Monetized Present Value and Annualized Costs of Rule, 2019-2023
[2019 U.S. dollars]
| 3% Discount rate | 7% Discount rate
Present Value Cost | $48,620 | $44,356
Annualized Cost | 10,307 | 10,110
Note: The estimates in this table are contingent upon CBP's projections as well as the discount rates applied.

4. Distributional Impacts

a. SENTRI

Under the proposed rule, the SENTRI fee would decrease from $122.25 to $120, the entire SENTRI fee would be required to be paid when submitting a SENTRI program application, and all minors under the age of 18 would be exempt from the SENTRI program fee when a parent or legal guardian is either a member of or concurrently applying for SENTRI. Table 8 shows the historical approved adult SENTRI applicants from 2013 to 2018.³⁹ CBP notes that the data presented in Table 8 for 2018 is a projection and not actual data. CBP based the 2018 approved adult SENTRI applications figure on the CAGR of approved adult SENTRI applications between 2013 and 2017, which is equal to nine percent, applied to the actual number of approved adult SENTRI applications in 2017.

³⁹ Source: Email correspondence with CBP's Office of Field Operation on May 23, 2018. CBP notes that the data presented in Table 8 for 2018 is a projection and not actual data.

Table 8—Historical Approved Adult SENTRI Applicants, 2013-2018
Year | Total SENTRI enrollment applications approved applicants age 18 or older
2013 | 65,489
2014 | 61,982
2015 | 55,209
2016 | 88,163
2017 | 91,468
2018 * | 99,700
Total | 462,011
* Projection.

The proposed SENTRI program fee decrease would save individuals 18 years of age or older $2.25 over a five-year period (an average of $0.45 per year) when they either apply for SENTRI for the first time or renew their SENTRI membership. Using the above historical data in Table 8 and the nine percent CAGR of approved adult SENTRI applications between 2013 and 2017, CBP estimates that over the five-year period of analysis from 2019 to 2023, 650,378 adults (130,076 adults per year on average) would either join the SENTRI program or renew their memberships. Based on these projected memberships, CBP estimates that the proposed fee decrease would result in decreased transfer payments from SENTRI applicants to the U.S. Government of approximately $1,463,351 ($292,670 per year on average) over the five-year period of analysis (650,378 estimated SENTRI applications * $2.25 proposed fee decrease = $1,463,351). This is shown in Table 9 below. CBP notes that the SENTRI program is a voluntary program and each renewing or prospective participant must determine if the benefits of dedicated CBP processing into the United States would equal or exceed the costs of the program. CBP compares these benefits and costs below in section “V. A. 8. Benefits and Breakeven Analysis.”

Table 9—Decrease in Transfer Payments from Adult SENTRI Applicants to CBP as a Result of the Rule, 2019-2023
[Undiscounted 2019 U.S. dollars]
Year | Approved adult SENTRI enrollment applications | Transfers based on current fee of $122.25 | Transfers based on proposed fee of $120 | Decrease in transfers from applicants
2019 | 108,673 | $13,285,274 | $13,040,760 | $244,514
2020 | 118,454 | 14,481,002 | 14,214,480 | 266,522
2021 | 129,115 | 15,784,309 | 15,493,800 | 290,509
2022 | 140,735 | 17,204,854 | 16,888,200 | 316,654
2023 | 153,401 | 18,753,272 | 18,408,120 | 345,152
Total | 650,378 | 79,508,711 | 78,045,360 | 1,463,351
Note: Totals may not sum due to rounding.

In addition to decreasing the fee for the SENTRI program, CBP is proposing to require that the entire fee be paid when submitting an application. Currently, renewing and prospective SENTRI participants are only required to pay a $25 application fee and a $14.50 FBI fingerprinting fee, for a total of $39.50, when submitting a SENTRI program application and an applicant is not responsible for the remaining fee component ($82.75 DCL fee) if he or she does not receive a conditional approval. Under the proposed rule, a SENTRI applicant who does not receive a conditional approval would see an $80.50 increase in price ([$120 proposed SENTRI fee—$39.50 current SENTRI application fee] = $80.50). As previously mentioned, this new fee does not include any costs related to DCLs because the technology deployed and costs associated with the creation of DCLs is no longer necessary and CBP plans to eliminate the fee with this rule. CBP estimates that over the last 10 years, an average of approximately 4,700 individuals per year did not receive a conditional approval when applying for the SENTRI program.⁴⁰ Using this annual average over the last 10 years as a projection of SENTRI applicants who would not receive a conditional approval over the period of analysis, and assuming that these applicants are adults, CBP estimates that SENTRI applicants who do not receive a conditional approval would transfer up to an additional $1,891,750 to the U.S. Government with this rule between 2019 and 2023, or $378,350 per year (4,700 SENTRI applicants not receiving a conditional approval * $80.50 = $378,350 * 5 years = $1,891,750). This is shown in Table 10 below.

⁴⁰ Source: Email correspondence with CBP's Office of Field Operations on May 23, 2018.

Table 10—Potential Increase in Transfer Payments From Adult SENTRI Applicants to CBP as a Result of the Rule, 2019-2023
[Undiscounted 2019 U.S. dollars] *
Year | SENTRIapplications without conditional approval | Transfer based on current fee of $39.50 | Transfer based on proposed fee of $120 | Increase in transfers from applicants
2019 | 4,700 | $185,650 | $564,000 | $378,350
2020 | 4,700 | 185,650 | 564,000 | 378,350
2021 | 4,700 | 185,650 | 564,000 | 378,350
2022 | 4,700 | 185,650 | 564,000 | 378,350
2023 | 4,700 | 185,650 | 564,000 | 378,350
Total | 23,500 | 928,250 | 2,820,000 | 1,891,750
* CBP assumes, for the purposes of this analysis, that the applicants included in this table who do not receive conditional approval for their SENTRI applications are adults.
Note: Totals may not sum due to rounding.

This rule also proposes to exempt all minors under 18 years of age from paying the SENTRI fee when a parent or legal guardian is a member of or concurrently applies for SENTRI. As shown in Table 3, CBP currently places a cap on the maximum amount a family is required to pay for the application and DCL components of the SENTRI program fee. For the purposes of the SENTRI program, a family is considered to be a father, mother, and minors under 18 years of age. This proposed rule would exempt all minors under 18 years of age from the SENTRI fee as long as one parent or legal guardian is a member of or concurrently applying for SENTRI. CBP's SENTRI database does not track which participants have family members that also participate in the program. As such, CBP is unable to determine how many families would benefit, or the extent to which they would benefit, from the proposed change. However, assuming that in the absence of this rulemaking, future SENTRI applicants under 18 years of age would largely be exempt from the SENTRI fee because of the existing SENTRI fee exemptions for minors, this rule's fee exemption for minors would have no impact on transfer payments between minor SENTRI applicants and CBP during the period of analysis. CBP presents two examples below in Table 11 to illustrate the possible savings that a family may receive under the proposed rule.

Table 11—Illustrative Examples of the Proposed SENTRI Program Savings
Example | Fee structure | Cost | Change from current fee structure
A mother and one 14-year-old minor child apply for the SENTRI program | Current | $244.50 ([2 individuals * $25 application fee = $50] + [2 individuals * $82.75 DCL fee = $165.50 ] + [2 individuals * $14.50 FBI fingerprinting fee = $29] = $244.50) | No change.
| Proposed | $120 ([1 adult * $120 proposed SENTRI program fee] + [1 minor under 18 years of age * $0 proposed SENTRI program fee] = $120) | Savings of $124.50 ($244.50−$120 = $124.50).
A family of four comprising a mother, father, and two 14-year-old minor children apply for the SENTRI program | Current | $273.50 ([4 individuals * $25 application fee = $50 family cap] + [4 individuals * $82.75 DCL fee = $165.50 family cap] + [4 individuals * $14.50 FBI fingerprinting fee = $58] = $273.50) | No change.
| Proposed | $240 ([2 adult * $120 proposed SENTRI program fee] + [2 minors under 18 years of age * $0 proposed SENTRI program fee] = $240) | Savings of $28 ($268−$240 = $28).

b. Global Entry

Under the proposed rule, the Global Entry program fee would increase from $100 to $120 and all minors under 18 years of age would be exempt from the Global Entry program fee when a parent or legal guardian is either a member of or is concurrently applying for Global Entry. Table 12 below details the

historical approved adult Global Entry applications from 2013 to 2018.⁴¹

⁴¹ Source: Email correspondence with CBP's Office of Field Operation on May 23, 2018. CBP notes that the data presented in Table 12 for 2018 is a projection and not actual data. CBP based the 2018 approved adult Global Entry applications figure on the CAGR of approved adult Global Entry applications between 2013 and 2017, which is equal to 23 percent, applied to the actual number of approved adult Global Entry applications in 2017.

Table 12—Historical Approved Adult Global Entry Applications, 2013-2018
Year | Total approved adult GE enrollment applications
2013 | 566,180
2014 | 732,145
2015 | 769,785
2016 | 1,153,818
2017 | 1,306,617
2018 * | 1,607,139
Total | 6,135,684
* Projection.

The proposed Global Entry program fee increase would cost individuals 18 years of age or older an additional $20 over a five-year period (an additional $4 per year) when they either apply for the Global Entry trusted traveler program for the first time or renew their Global Entry membership. Considering the above historical data in Table 12 and the 23 percent CAGR of approved adult Global Entry applications between 2013 and 2017, CBP estimates that 15,602,006 adults (3,120,401 adults per year) would either renew or apply to join the Global Entry program over the period of analysis. Using this figure, CBP estimates that the proposed fee increase would result in an increased transfer payment from Global Entry applicants to the U.S. Government (namely, CBP) of $312,040,120 from 2019 to 2023 (15,602,006 estimated Global Entry applicants * $20 proposed fee increase = $312,040,120). In 2019, the proposed fee increase would result in an increased transfer payment of $39,535,620. This is shown in Table 13 below. CBP notes that the Global Entry program is a voluntary program and each renewing or prospective participant must determine if the benefits of dedicated CBP processing into the United States would equal or exceed the costs of the program. CBP compares these benefits and costs below in section “V. A. 8. Benefits and Breakeven Analysis.”

Table 13—Increase in Transfer Payments From Adult Global Entry Applicants to CBP as a Result of the Rule, 2019-2023
[Undiscounted 2019 U.S. dollars]
Year | Approved adult Global Entry applications | Transfer based on current fee of $100 | Transfer based on proposed fee of $120 | Increase in transfers from applicants
2019 | 1,976,781 | $197,678,100 | $237,213,720 | $39,535,620
2020 | 2,431,440 | 243,144,000 | 291,772,800 | 48,628,800
2021 | 2,990,672 | 299,067,200 | 358,880,640 | 59,813,440
2022 | 3,678,526 | 367,852,600 | 441,423,120 | 73,570,520
2023 | 4,524,587 | 452,458,700 | 542,950,440 | 90,491,740
Total | 15,602,006 | 1,560,200,600 | 1,872,240,720 | 312,040,120
Note: Totals may not sum due to rounding.

This rule also proposes to exempt all minors under 18 years of age from the Global Entry fee when a parent or legal guardian is a participant in or concurrently applies for Global Entry. Currently, all Global Entry applicants are required to pay the full $100 fee. CBP's Global Entry database does not track which participants have family members that also participate in the program. As such, CBP is unable to determine how many families would benefit, or the extent to which they would benefit, from the proposed change. However, assuming that all minor Global Entry applicants would be exempt from the applicant fee based on their parent or legal guardian's concurrent application or membership, this fee change would affect up to 1,569,955 minor Global Entry applicants (see Table 5) and result in a maximum of $156,995,500 in fee savings to these applicants (and their respective families). CBP presents the example below in Table 14 to illustrate the possible savings that a family may receive under the proposed rule. Table 15 shows the potential decrease in transfer payments from minor Global Entry applicants to CBP as a result of this rule under the assumption that all minor Global Entry applicants would be exempt from the applicant fee with this rule based on their parent or legal guardian's concurrent Global Entry application or membership.

Table 14—Illustrative Example of the Proposed Global Entry Program Savings
Example | Fee structure | Cost | Change from current fee structure
A mother and one 14-year-old minor child apply for the Global Entry program | Current | $200 ([1 adult * $100 current Global Entry program fee] + [1 minor under 18 years of age * $100 current Global Entry program fee] = $200) | No change.
| Proposed | $120 ([1 adult * $120 proposed Global Entry program fee] + [1 minor under 18 years of age * $0 proposed Global Entry program fee] = $120) | Savings of $80 ($200−$120 = $80).
A family of four comprising two adults and two minor children under 18 years of age apply for the Global Entry program | Current | $400 ([2 adults * $100 current Global Entry program fee] + [2 minors under 18 years of age * $100 current Global Entry program fee] = $400) | No change.
| Proposed | $240 ([2 adults * $120 proposed Global Entry program fee] + [2 minors under 18 years of age * $0 proposed Global Entry program fee] = $240) | Savings of $160 ($400−$240 = $160).

Table 15—Potential Decrease in Transfer Payments From Minor Global Entry Applicants to CBP as a Result of the Rule, 2019-2023
[Undiscounted 2019 U.S. dollars]
Year | Minor Global Entry applicants | Transfer based on current fee of $100 | Transfer based on proposed fee of $0 | Potential decrease in transfers from applicants
2019 | 170,292 | $17,029,200 | $0 | $17,029,200
2020 | 223,083 | 22,308,300 | 0 | 22,308,300
2021 | 292,238 | 29,223,800 | 0 | 29,223,800
2022 | 382,832 | 38,283,200 | 0 | 38,283,200
2023 | 501,510 | 50,151,000 | 0 | 50,151,000
Total | 1,569,955 | 156,995,500 | 0 | 156,995,500
Note: Totals may not sum due to rounding.

5. Total Monetized Decrease in Transfer Payments to U.S. Government

Table 16 summarizes the total monetized decrease in transfer payments from the SENTRI and Global Entry applicants to CBP as a result of this proposed rule (see Table 9 and Table 15). Altogether, this rule could result in a total discounted decrease in monetized transfer payments from SENTRI and Global Entry applicants to the U.S. Government from 2019 to 2023 ranging from $134.2 million to $147.2 million in present value and $30.6 million to $31.2 million on an annualized basis, depending on the discount rate used.

Table 16—Total Potential Monetized Present Value and Annualized Decrease in Transfer Payment From Applicants to CBP as a Result of the Rule, 2019-2023
[2019 U.S. dollars]
| 3% Discount rate | 7% Discount rate
Present Value Decrease in Transfer Payment | $147,200,595 | $134,182,870
Annualized Decrease in Transfer Payment | 31,205,750 | 30,585,003
Note: The estimates in this table are contingent upon CBP's projections as well as the discount rates applied.

6. Total Monetized Increase in Transfer Payments to U.S. Government

Alternatively, Table 17 summarizes the total monetized increase in transfer payments from the SENTRI and Global Entry applicants to CBP as a result of this proposed rule. Altogether, this rule could result in a total discounted increase in monetized transfer payments from SENTRI and Global Entry applicants to the U.S. Government from 2019 to 2023 (see Table 10 and Table 13) ranging from $268.0 million to $292.6 million in present value and $61.1 million to $62.0 million on an annualized basis, depending on the discount rate used.

Table 17—Total Potential Monetized Present Value and Annualized Increase in Transfer Payments From Applicants to CBP as a Result of the Rule, 2019—2023
[2019 U.S. dollars]
| 3% Discount rate | 7% Discount rate
Present Value Increase in Transfer Payments | $292,640,852 | 267,977,547
Annualized Increase in Transfer Payments | $62,038,318 | 61,081,523
Note: The estimates in this table are contingent upon CBP's projections as well as the discount rates applied.

7. Net Transfer Payments to U.S. Government

Table 18 illustrates the potential monetized net transfer payments of this rule from SENTRI and Global Entry applicants to the U.S. Government (namely, CBP). As shown, the total monetized present value net transfer payment of this rule from applicants to the U.S. Government over the five-year period of analysis from 2019 to 2023 could range from approximately $133.8 million to $145.4 million. The annualized net transfer payment could measure between $30.5 million and $30.8 million over the period of analysis.

Table 18—Total Potential Monetized Present Value and Annualized Net Transfer Payments of Rule, 2019-2023
[2019 U.S. dollars]
| 3% Discount rate: Present value | 3% Discount rate: Annualized | 7% Discount rate: Present value | 7% Discount rate: Annualized
Total Decrease in Transfer Payments from Applicants to CBP | $147,200,595 | $31,205,750 | $134,182,870 | $30,585,003
Total Increase in Transfer Payments from Applicants to CBP | 292,640,852 | 62,038,318 | 267,977,547 | 61,081,523
Total Net Transfer Payments from Applicants to CBP | 145,440,257 | 30,832,568 | 133,794,677 | 30,496,520
Note: The estimates in this table are contingent upon CBP's projections as well as the discount rates applied.

8. Benefits and Breakeven Analysis

CBP is proposing to exempt all minors under 18 years of age from paying the trusted traveler program fee when a parent or legal guardian is a member of or concurrently applying for membership in the same program to which the minor is applying. Currently, minors applying for the Global Entry program are required to pay the full $100 program fee. Minors applying for the SENTRI program, however, may be exempt from certain SENTRI fee components (see Table 3). In addition, to lessen the financial burden for families applying to the SENTRI trusted traveler program, CBP currently places a cap on the maximum amount that a family is required to pay for the application and DCL components of the SENTRI program fee. The maximum caps are $50 and $165.50, respectively. For the purposes of the SENTRI program, CBP considers a family to be a father, mother, and minors under 18 years of age.

This proposed fee exemption for minors is a reduction in a transfer payment. As such, this proposal is not considered a benefit of this rule to society. CBP does recognize, however, that the proposed fee changes may have a positive distributional impact on individuals and families applying or renewing their membership in either the SENTRI or Global Entry trusted traveler program. In order to inform stakeholders of all potential effects of the proposed rule, CBP has analyzed the distributional effects of the proposed rule in section “V. A. 4. Distributional Impacts.”

With this rule, CBP is also proposing to codify Global Entry benefits that have previously been implemented. These benefits allow the use of Global Entry in U.S. territories and preclearance facilities. These proposed changes, however, would not confer additional benefits to trusted traveler program participants because they are currently operational. As such, these proposed changes are not analyzed in this analysis.

Lastly, CBP is proposing a harmonized membership fee of $120 for the SENTRI, Global Entry, and NEXUS trusted traveler programs.⁴² Although the trusted traveler programs all offer nearly reciprocal benefits with each other, the current SENTRI, Global Entry, and NEXUS fees are $122.25, $100, and $50, respectively. In addition to leading to potential confusion and charging of different prices for nearly the same product for prospective and renewing trusted traveler program members, these different fees are no longer sufficient to recover CBP's costs to administer the programs. While not easily quantifiable, if finalized, the proposed fee harmonization would allow individuals to choose the trusted traveler program that meets their travel needs best rather than choosing a program based on the cost. Additionally, the harmonized fee would ensure that a reasonable portion of the CBP costs are recovered and that costs are more equitably distributed between all the trusted traveler program participants now that each program has nearly reciprocal benefits with the other programs.

⁴² As discussed above, CBP will be issuing a separate Federal Register notice to change the NEXUS fee to $120.

The U.S. Government Accountability Office (GAO) conducted a review of the SENTRI, NEXUS, and Global Entry trusted traveler programs.⁴³ During this review, GAO observed 14 border crossings with SENTRI lanes. Of these 14 crossings, GAO observed 11 crossings where vehicles experienced a time savings of at least 15 minutes (0.25 hours) when crossing the U.S.-Mexico border compared to vehicles in traditional lanes. Considering these observed time savings and the assumed $20.40 hourly time value for SENTRI applicants, CBP estimates that a SENTRI participant saves approximately $5.10 per crossing ($20.40 estimated hourly time value * 0.25 hours of time savings = $5.10). Based on these time cost savings per crossing, CBP estimates that a SENTRI participant 18 years of age or older must make five crossings per year for the benefits of the SENTRI program to equal the cost of membership over the five-year period of analysis ($120 SENTRI fee ÷ 5 years of membership = $24 membership cost per year; $24 membership cost per year ÷ $5.10 estimated savings per crossing = 5 crossings per year (rounded up)).⁴⁴ This compares to the five crossings currently required under the baseline ($122.25 current SENTRI fee ÷ 5 years of membership = $24.45 membership cost per year; $24.45 membership cost per year ÷ $5.10 estimated savings per arrival = 5 crossings per year (rounded up)).

⁴³ Trusted Travelers: Programs Provide Benefits, but Enrollment Processes Could Be Strengthened; available at: http://www.gao.gov/products/GAO-14-483.

⁴⁴ This document does not propose changes to the current application and the interview process. Accordingly, these estimates do not account for the opportunity cost associated with applying and interviewing for the SENTRI trusted traveler program.

GAO found that the average time savings for travelers using Global Entry kiosks is 10 minutes (0.1667 hours) to 27 minutes (0.45 hours). As referenced above, using DOT's guidance, CBP estimates a Global Entry applicant's hourly time value to be $47.10 per hour. Using this estimate and the minimum Global Entry time savings identified by GAO, CBP estimates that Global Entry participants save at least $7.85 per arrival ($47.10 estimated hourly time value * 0.1667 hours of minimum time savings = $7.85). Based on these minimum time cost savings per arrival, CBP estimates that a Global Entry participant 18 years of age or older must make four arrivals per year for the benefits of the Global Entry program to equal the cost of membership ($120 Global Entry fee ÷ 5 years of membership = $24 membership cost per year; $24 membership cost per year ÷ $7.85 estimated savings per arrival = 4 arrivals per year (rounded up)).⁴⁵ This compares to the three arrivals currently required under the baseline ($100 current Global Entry fee ÷ 5 years of membership = $20 membership cost per year; $20 membership cost per year ÷ $7.85 estimated savings per arrival = 3 arrivals per year (rounded up)).

⁴⁵ This document does not propose changes to the current application and interview process. Accordingly, these estimates do not account for the opportunity cost associated with applying and interviewing for the Global Entry trusted traveler program.

B. Regulatory Flexibility Act

This section examines the impact of the rule on small entities as required by the Regulatory Flexibility Act (5 U.S.C. 601 et. seq.), as amended by the Small Business Regulatory Enforcement and Fairness Act of 1996 (SBREFA). A small entity may be a small business (defined as any independently owned and operated business not dominant in its field that qualifies as a small business per the Small Business Act); a small not-for-profit organization; or a small governmental jurisdiction (locality with fewer than 50,000 people).

If finalized, the rule will directly regulate individuals who are primarily not considered small entities under the Regulatory Flexibility Act, as amended by SBREFA. However, a small number of individuals may obtain the rule's trusted traveler benefit as a sole proprietor. When choosing to re-enroll in the SENTRI or Global Entry programs once this rule is in effect, these sole proprietors must determine if the benefit of receiving dedicated CBP processing still meets or exceeds the cost of joining one of these programs. If an individual voluntarily chooses to join the SENTRI or Global Entry programs as a sole proprietor under this rule and he/she is approved for membership, he/she would incur a maximum cost of $20 per year (based on the new Global Entry enrollment fee change from $100 to $120 for adult applicants).⁴⁶ CBP does not believe that this cost would result in a significant economic impact. For these reasons, CBP certifies that the proposed rule would not have a significant economic impact on a substantial number of small entities.

⁴⁶ Under the proposed rule, a SENTRI applicant who does not receive a conditional approval would see an $80.50 increase in price compared to the baseline.

C. Unfunded Mandates Reform Act of 1995

This rule will not result in the expenditure by State, local, and tribal governments, in the aggregate, or by the private sector, of $100 million or more in any one year (adjusted for inflation), and it will not significantly or uniquely affect small governments. Therefore, no actions are necessary under the provisions of the Unfunded Mandates Reform Act of 1995.

D. Executive Order 13132

The rule will not have substantial direct effects on the States, on the relationship between the National Government and the States, or on the distribution of power and responsibilities among the various levels of government. Therefore, in accordance with section 6 of Executive Order 13132, this rule does not have sufficient federalism implications to warrant the preparation of a federalism summary impact statement.

E. Paperwork Reduction Act

An agency may not conduct or sponsor, and a person is not required to respond to, a collection of information unless it displays a valid control number assigned by OMB. The collections of information for the SENTRI and Global Entry applications are approved by OMB in accordance with the Paperwork Reduction Act (44 U.S.C. 3507) under control number 1651-0121.⁴⁷ The proposals contained in these regulations under 8 CFR part 235 revise the collection of information by requiring electronic submission of the SENTRI application and propose eliminating paper Form 823S. Additionally, this proposed regulation would require a minor under 18 years of age applying for membership in either the SENTRI or Global Entry trusted traveler program whose parent or legal guardian is already a member of the same program to submit his or her parent's or legal guardian's name and trusted traveler number.

⁴⁷ The changes to the NEXUS program are exempt from the PRA requirements pursuant to 8 U.S.C. 1753(c).

OMB approved collection 1651-0121 will be amended to reflect the additional SENTRI and Global Entry information collections for minor applicants under 18 years of age. CBP estimates that this rule would result in an additional 2-minute time burden on minors under 18 years of age applying for membership in either the SENTRI or Global Entry trusted traveler program whose parent or legal guardian is already a member of the same program to submit his or her parent's or legal guardian's name and trusted traveler number. CBP estimates that this would affect 785 minor SENTRI applicants and 3,406 minor Global Entry applicants annually and result in an additional 138 burden hours.

This new, proposed information collection requirement will result in the following revision of additional burden hours to the SENTRI information collection:

Estimated number of respondents annually: 785.

Estimated average annual burden per respondent: 0.033 hours.

Estimated total annual reporting burden: 26.

The addition of these burden hours will revise the total burden associated with the SENTRI application to 84,878.

These new, proposed requirements will result in the following revision of additional burden hours for the Global Entry information collection:

Estimated number of respondents annually: 3,406.

Estimated average annual burden per respondent: 0.033 hours.

Estimated total annual reporting burden: 112.

The addition of these burden hours will revise the total burden associated with the Global Entry application to 947,782.

These proposed regulations change the SENTRI fee from $122.25 to $120 for adults and certain minors and reduce the fee for minors from the fee currently applicable under the family option plan to zero when a parent or legal guardian is a participant in or concurrently applying for SENTRI. CBP is also proposing to require that the entire fee be paid when submitting an application. Currently, renewing and prospective SENTRI participants are only required to pay a $25 application fee and a $14.50 FBI fingerprinting fee, for a total of $39.50, when submitting a SENTRI program application and an applicant is not responsible for the remaining fee component ($82.75 DCL fee) if he or she does not receive a conditional approval. Under the proposed rule, a SENTRI applicant who does not receive a conditional approval would see an $80.50 increase in price ([$120 proposed SENTRI fee—$39.50 current SENTRI application fee] = $80.50). The total annual estimated costs associated with the SENTRI fee that is currently approved by OMB under control number 1651-0121 is $15,482,351. Under these proposed regulations, the total annual estimated costs associated with the SENTRI fee could be $15,616,187, which reflects an increase of $133,836.⁴⁸

⁴⁸ CBP's trusted traveler databases do not track which participants have family members that also participate in the program and would be exempt from the fee due to family membership fee caps. As such, this may not reflect the actual costs of the SENTRI fee to respondents.

These proposed regulations also change the Global Entry fee from $100 to $120 for adults and certain minors (8 CFR 235.12 and 8 CFR 103.7) and reduce the fee for certain minors from $100 to zero when a parent or legal guardian is a participant in or concurrently applying for Global Entry (8 CFR 235.12 and 8 CFR 103.7). The total annual estimated costs associated with Global Entry that is currently approved by OMB under control number 1651-0121 is $141,443,400. Under these proposed regulations, the total annual estimated costs associated with the Global Entry fee could be $163,949,820, which reflects an increase of $22,506,420.⁴⁹

⁴⁹ CBP's trusted traveler databases do not track which participants have family members that also participate in the program and would be exempt from the fee due to family membership fee exemptions. As such, this may not reflect the actual costs of the Global Entry fee to respondents.

Comments concerning the collections of information should be directed to the Border Security Regulations Branch, Regulations and Rulings, U.S. Customs and Border Protection, 90 K Street, NE (10th Floor), Washington, DC 20229.

F. Privacy

CBP generally requires travelers to apply for membership in a CBP trusted traveler program, such as Global Entry and NEXUS, through the TTP Systems website (https://ttp.cbp.dhs.gov/). For the SENTRI program, CBP accepts electronic applications through the TTP Systems website and paper applications (SENTRI Application, CBP Form 823S). CBP uses the cloud-based Trusted Traveler Program (TTP) System for online application to CBP programs; and the use of the General Services Administration (GSA) Login.gov portal for identity authentication. CBP maintains trusted traveler information in the Global Enrollment System (GES), Trusted Traveler Program (TTP) System, and DHS Automated Biometric Identification System (IDENT). The personally identifiable information provided by the applicants, including the fingerprint biometrics taken at the time of the personal interview, may be shared with other government and law enforcement agencies in accordance with applicable laws and regulations, including as described in the Privacy Act system of records notice for GES (Department of Homeland/U.S. Customs and Border Protection—002 Global Enrollment System (GES) System of Records, 78 FR 3441 (Jan. 16, 2013), available at http://www.gpo.gov/fdsys/pkg/FR-2013-01-16/html/2013-00804.htm and http://www.dhs.gov/system-records-notices-sorns. CBP provides additional information about GES and its CBP trusted traveler programs in its Privacy Impact Assessment (PIA) for GES, DHS/CBP/PIA—002 Global Enrollment System, and subsequent updates, available at https://www.dhs.gov/publication/global-enrollment-system-ges. Applicants' biometric information (fingerprints, photographs) submitted as part of a GES application are stored in the DHS biometric repository, DHS Automated Biometric Identification System (IDENT). DHS has provided information about IDENT in the Privacy Impact Assessment for the Automated Biometric Identification System (IDENT), DHS/NPPD/PIA—002 (Dec. 7, 2012), and Appendices, available at https://www.dhs.gov/publication/dhsnppdpia-002-automated-biometric-identification-system.

G. Signature

The Acting Secretary of Homeland Security, Chad F. Wolf, having reviewed and approved this document, is delegating the authority to electronically sign this document to Chad R. Mizelle, who is the Senior Official Performing the Duties of the General Counsel for DHS, for purposes of publication in the Federal Register.

VI. List of Subjects

8 CFR Part 103

Administrative practice and procedure, Authority delegations (Government agencies), Freedom of information, Immigration, Privacy, Reporting and recordkeeping requirements, Surety bonds.

8 CFR Part 235

Administrative practice and procedure, Aliens, Immigration, Reporting and recordkeeping requirements.

VII. Proposed Amendments to the Regulations

For the reasons set forth in the preamble, CBP proposes to amend 8 CFR parts 103 and 235 as set forth below.

PART 103—IMMIGRATION BENEFITS; BIOMETRIC REQUIREMENTS; AVAILABILITY OF RECORDS

1. The authority citation for part 103 is revised to read as follows:

Authority: 5 U.S.C. 301, 552, 552a; 8 U.S.C. 1101, 1103, 1304, 1356, 1365b; 1372; 31 U.S.C. 9701; 48 U.S.C. 1806; Public Law 107-296, 116 Stat. 2135 (6 U.S.C. 1 et seq.), E.O. 12356, 47 FR 14874, 15557, 3 CFR, 1982 Comp., p. 166; 8 CFR part 2, Pub. L. 112-54, 125 Stat 550; 31 CFR part 223.

2. Amend § 103.7 as follows:

a. Removing and reserving paragraph (b)(1)(ii)(A)

b. Adding a new sentence at the end of paragraph (b)(1)(ii)(G);

c. Revising paragraph (b)(1)(ii)(M);

d. Adding a new paragraph (b)(1)(ii)(P).

The additions and revision read as follows:

§ 103.7 Fees.

* * * * *

(b) * * *

(1) * * *

(ii) * * *

(A) [Reserved].

* * * * *

(G) * * * For the SENTRI program, see paragraph (b)(1)(ii)(P) of this section.

* * * * *

(M) Global Entry. For filing an application for Global Entry—$120. Minors under the age of 18 who apply to the Global Entry program concurrently with a parent or legal guardian, or whose parent or legal guardian is already a member of Global Entry, are exempt from payment of the application fee.

* * * * *

(P) SENTRI program. For filing an application for the SENTRI program—$120. Minors under the age of 18 who apply to the SENTRI program concurrently with a parent or legal guardian, or whose parent or legal guardian is already a member of SENTRI, are exempt from payment of the application fee. One vehicle may be registered for use in the SENTRI lanes during the initial application or renewal process at no additional charge. If an applicant or participant wishes to register more than one vehicle for use in the SENTRI lanes, or the participant registers his or her first vehicle after the initial application or renewal process, he or she will be assessed an additional fee of $42 for each vehicle.

* * * * *

PART 235—INSPECTION OF PERSONS APPLYING FOR ADMISSION

3. The authority citation for part 235 is revised to read as follows:

Authority: 6 U.S.C. 218 and note; 8 U.S.C. 1101 and note, 1103, 1158, 1182, 1183, 1185 (pursuant to E.O. 13323, 69 FR 241, 3 CFR, 2004 Comp., p.278), 1185 note, 1201, 1224, 1225, 1226, 1228, 1365a note, 1365b, 1379, 1731-32; 48 U.S.C 1806 and note.4. In § 235.7, revise the heading and redesignate paragraphs (a)(1)(ii) through (iv) as paragraphs (a)(1)(iii) through (v) and add paragraph (a)(1)(ii) to read as follows:

§ 235.7 Automated inspection services (PORTPASS)

(a) * * *

(1) * * *

(i) * * *

(ii) SENTRI program. Although the SENTRI program is a PORTPASS program, all the parameters of the SENTRI program, including the eligibility requirements, application procedures, redress procedures, registration of vehicles, use of dedicated commuter lanes, and fee requirements are specified in 8 CFR 235.14. For purposes of the SENTRI program, 8 CFR 235.14 supersedes the provisions of section 235.7.

* * * * *

5. Amend § 235.12 by revising paragraphs (a), (b)(2) introductory text, (c), (d)(2), (3), (e)(1), (g), (h), (j) and (k) to read as follows:

§ 235.12 Global Entry program.

(a) Program description. The Global Entry program is a voluntary international trusted traveler program consisting of an integrated passenger processing system that facilitates the movement of pre-approved air travelers into the United States by providing an alternate inspection process. In order to participate, a person must meet the eligibility requirements specified in this section, apply in advance, undergo pre-screening by CBP, and be accepted into the program. The Global Entry program allows participants dedicated CBP processing at selected airports identified by CBP at www.cbp.gov. Participants in the Global Entry program may also be able to take advantage of certain benefits of the Secure Electronic Network for Travelers Rapid Inspection (SENTRI) and NEXUS programs. Please see http://www.cbp.gov for additional information. Participants will be processed through the use of CBP-approved technology that will include the use of biometrics to validate identity and to perform enforcement queries.

(b) * * *

(2) Disqualifying factors. An individual is ineligible to participate in Global Entry if CBP, at its sole discretion, determines that the individual presents a potential risk for terrorism or criminality (such as smuggling), or if CBP is unable to establish that the applicant can be considered low-risk. This risk determination will be based in part upon an applicant's ability to demonstrate past compliance with laws, regulations, and policies. Reasons why an applicant may not qualify for participation include:

* * * * *

(c) Participating airports. The Global Entry program allows participants dedicated CBP processing at the locations identified at www.cbp.gov. Expansions of the Global Entry program to new airports will be announced by publication in the Federal Register and at www.cbp.gov.

(d) * * *

(2) Except for certain minors, all applicants must pay the non-refundable fee in the amount set forth at 8 CFR 103.7(b)(1)(ii)(M) for “Global Entry”. Minors under the age of 18 who apply to the Global Entry program concurrently with a parent or legal guardian, or whose parent or legal guardian is already a member of Global Entry, are exempt from payment of the applicable fee. The fee is to be paid to CBP at the time of application through TTP Systems, https://ttp.cbp.dhs.gov, or other CBP-approved process.

(3) Every applicant accepted into Global Entry is accepted for a period of 5 years provided participation is not terminated by CBP prior to the end of the 5-year period. Each applicant may apply to renew participation up to one year prior to the close of the participation period.

* * * * *

(e) * * *

(1) After submitting the application, the applicant will be notified by CBP that he or she needs to appear for a personal interview.

* * * * *

(g) Arrival Procedures. In order to utilize the Global Entry program, each participant must:

(1) Proceed to Global Entry Processing and follow all CBP instructions; and

(2) Proceed to the nearest open primary inspection station if CBP determines it is appropriate.

(h) Application for Entry, Examination and Inspection. Each successful use of Global Entry constitutes a separate and completed inspection and application for entry by the participant on the date that Global Entry is used. Global Entry participants may be subject to further CBP examination and inspection at any time during the arrival process.

* * * * *

(j) Denial and removal.

(1) If an applicant is denied participation in Global Entry, CBP will notify the applicant of the denial and the reasons for the denial. CBP will also provide instructions regarding how to proceed if the applicant wishes to seek additional information as to the reason for the denial.

(2) A Global Entry participant may be removed from the program for any of the following reasons:

(i) CBP, at its sole discretion, determines that the participant has engaged in any disqualifying activities under the Global Entry program as outlined in § 235.12(b)(2);

(ii) CBP, at its sole discretion, determines that the participant provided false information in the application and/or during the application process;

(iii) CBP, at its sole discretion, determines that the participant failed to follow the terms, conditions, and requirements of the program;

(iv) CBP determines that the participant has been arrested or convicted of a crime or otherwise determines, at its sole discretion, that the participant no longer meets the program eligibility criteria; or

(v) CBP, at its sole discretion, determines that such action is otherwise necessary.

(3) CBP will notify the participant of his or her removal in writing. Such removal is effective immediately.

(4) An applicant or participant denied or removed will not receive a refund, in whole or in part, of his or her application processing fee.

(k) Redress. An individual whose application is denied or whose participation is terminated has two possible methods of redress. These processes do not create or confer any legal right, privilege or benefit on the applicant or participant, and are wholly discretionary on the part of CBP. The methods of redress are:

(1) DHS Traveler Redress Inquiry Program (DHS TRIP). The applicant/participant may choose to initiate the redress process through DHS Traveler Redress Program (DHS TRIP). An applicant/participant seeking redress may obtain the necessary forms and information to initiate the process on the DHS TRIP website at www.dhs.gov/trip, or by contacting DHS TRIP by mail at the address on this website.

(2) Ombudsman. Applicants (including applicants who were not scheduled for an interview at an enrollment center) and participants may contest a denial or removal by submitting a reconsideration request to the CBP Trusted Traveler Ombudsman through TTP Systems, https://ttp.cbp.dhs.gov, or other CBP approved process.

6. Add new § 235.14 to read as follows:

§ 235.14 SENTRI program.

(a) Program description. The Secure Electronic Network for Travelers Rapid Inspection (SENTRI) trusted traveler program is a voluntary program that allows certain pre-approved travelers dedicated processing at specified land border ports along the U.S.-Mexico border. In order to participate, a person must meet the eligibility requirements specified in this section, apply in advance, undergo pre-screening by CBP, and be accepted into the program. A SENTRI participant will be issued a Radio Frequency Identification (RFID) card or other CBP-approved document that grants the individual access to specific, dedicated primary lanes (SENTRI lanes). These lanes are identified at http://www.cbp.gov. A SENTRI participant may utilize a vehicle in the dedicated SENTRI lanes into the United States from Mexico only if the vehicle is approved by CBP for such purpose. Participants in the SENTRI program may also be able to take advantage of certain benefits of the Global Entry and NEXUS programs. Please see http://www.cbp.gov and www.cbp.gov for additional information.

(b) Program eligibility criteria.

(1) Eligible individuals. Any individual may apply to participate in the SENTRI program absent any of the disqualifying factors described in paragraph (b)(2) of this section. Persons under the age of 18 must have the consent of a parent or legal guardian to participate in the SENTRI program and provide proof of such consent in accordance with CBP instructions.

(2) Disqualifying factors. An individual is ineligible to participate in the SENTRI program if CBP, at its sole discretion, determines that the individual presents a potential risk for terrorism, criminality (such as smuggling), or CBP is unable to establish that the applicant can be considered low-risk. This risk determination will be based in part upon an applicant's ability to demonstrate past compliance with laws, regulations, and policies. Reasons why an applicant may not qualify for participation include:

(i) The applicant provides false or incomplete information on his or her application;

(ii) The applicant has been arrested for, or convicted of, any criminal offense or has pending criminal charges or outstanding warrants in any country;

(iii) The applicant has been found in violation of any customs, immigration, or agriculture regulations, procedures, or laws in any country;

(iv) The applicant is the subject of an investigation by any federal, state or local law enforcement agency in any country;

(v) The applicant is inadmissible to the United States under applicable immigration laws or has, at any time, been granted a waiver of inadmissibility or parole;

(vi) The applicant is known or suspected of being or having been engaged in conduct constituting, in preparation for, in aid of, or related to terrorism; or

(vii) The applicant cannot satisfy CBP of his or her low-risk status or meet other program requirements.

(c) Program application.

(1) Each applicant must complete and submit the program application electronically through an approved application process as determined by CBP. The application and application instructions for the SENTRI program are available at www.cbp.gov.

(2) During the application process, an applicant must provide information on any vehicle that will utilize the SENTRI lanes. The vehicle must be approved by CBP to utilize the dedicated SENTRI lanes. There is no fee to register one vehicle for use in the SENTRI lanes, provided the vehicle is registered at the time of initial application or at renewal. If the vehicle is registered after the initial application or renewal is filed, or if an applicant or participant wishes to register more than one vehicle for use in the SENTRI lanes, he or she will be assessed an additional fee in the amount set forth at 8 CFR 103.7(b)(1)(ii)(P). The fee is to be paid to CBP at the time the vehicle is registered through TTP Systems, https://ttp.cbp.dhs.gov, or other CBP-approved process.

(3) Except for certain minors, all other applicants must pay the non-refundable fee in the amount set forth at 8 CFR 103.7(b)(1)(ii)(P) for the “SENTRI program”. Minors under the age of 18 who apply concurrently with a parent or legal guardian, or whose parent or legal guardian is already a member of SENTRI, are exempt from payment of the applicable fee. The fee is to be paid to CBP at the time of application through TTP Systems, https://ttp.cbp.dhs.gov, or other CBP-approved process.

(4) Every applicant accepted into the SENTRI program is accepted for a period of 5 years provided participation is not terminated by CBP prior to the end of the 5-year period. Each applicant may apply to renew participation up to one year prior to the close of the participation period.

(5) Each applicant may check the status of his or her application through his or her account with the application system in use for the SENTRI program.

(d) Interview and enrollment.

(1) After submitting the application, the applicant will be notified by CBP to schedule a personal interview at an enrollment center.

(2) Each applicant must bring to the interview with CBP the original of the identification document specified in his or her application. During the interview, CBP will collect biometric information from the applicant (e.g., a set of fingerprints and/or digital photograph) to conduct background checks or as otherwise required for participation in the program.

(3) CBP may provide for alternative enrollment procedures, as necessary, to facilitate enrollment and ensure an applicant's eligibility for the program.

(e) SENTRI lanes. A SENTRI participant is issued a Radio Frequency Identification (RFID) card or other CBP-approved document. This RFID card or other CBP-approved document will grant the participant access to specific, dedicated primary lanes into the United States from Mexico (SENTRI lanes). These lanes are identified at http://www.cbp.gov. A SENTRI participant may utilize a vehicle in the dedicated SENTRI lanes into the United States from Mexico only if the vehicle is approved by CBP for such purpose.

(f) Denial and removal.

(1) If an applicant is denied participation in the SENTRI program, or an applicant's or participant's vehicle is not approved for use in the SENTRI lanes, CBP will notify the applicant of the denial, and the reasons for the denial. CBP will also provide instructions regarding how to proceed if the applicant wishes to seek additional information as to the reason for the denial.

(2) A SENTRI participant may be removed from the program for any of the following reasons:

(i) CBP, at its sole discretion, determines that the participant has engaged in any disqualifying activities as outlined in § 235.14(b)(2);

(ii) CBP, at its sole discretion, determines that the participant provided false information in the application and/or during the application process;

(iii) CBP, at its sole discretion, determines that the participant failed to follow the terms, conditions and requirements of the program;

(iv) CBP determines that the participant has been arrested or convicted of a crime or otherwise determines, at its sole discretion, that the participant no longer meets the program eligibility criteria; or

(v) CBP, at its sole discretion, determines that such action is otherwise necessary.

(3) CBP will notify the participant of his or her removal in writing. Such removal is effective immediately.

(4) An applicant or participant denied or removed will not receive a refund, in whole or in part, of his or her application fee.

(g) Redress. An individual whose application is denied or whose participation is terminated has two possible methods for redress. These processes do not create or confer any legal right, privilege, or benefit on the applicant or participant, and are wholly discretionary on the part of CBP. The methods of redress are:

(1) DHS Traveler Redress Inquiry Program (DHS TRIP). The applicant/participant may choose to initiate the redress process through DHS TRIP. An applicant/participant seeking redress may obtain the necessary forms and information to initiate the process on the DHS TRIP website at www.dhs.gov/trip, or by contacting DHS TRIP by mail at the address on this website.

(2) Ombudsman. Applicants and participants may contest a denial or removal from the program or the denial or removal of their vehicle(s) for use in the SENTRI lanes by submitting a reconsideration request to the CBP Trusted Traveler Ombudsman through TTP Systems, https://ttp.cbp.dhs.gov, or other CBP approved process.

Chad R. Mizelle,
Senior Official Performing the Duties of the General Counsel, U.S. Department of Homeland Security.

[FR Doc. 2020-16369 Filed 9-8-20; 8:45 am]

BILLING CODE 9111-14-P